POSTAL SERVICE

39 CFR Part 111

New Mailing Standards for Domestic Mailing Services Products

AGENCY: Postal Service.

ACTION: Proposed rule.

SUMMARY: On April 9, 2025, the Postal Service (USPS®) filed a notice of mailing services price adjustments with the Postal Regulatory Commission (PRC), effective July 13, 2025. This proposed rule contains the revisions to Mailing Standards of the United States Postal Service, Domestic Mail Manual (DMM®) that we would adopt to implement the changes coincident with the price adjustments.

DATES: Submit comments on or before June 2, 2025.

ADDRESSES: Mail or deliver written comments to the Director, Product Classification, U.S. Postal Service, 475 L'Enfant Plaza SW, Room 4446, Washington, DC 20260-5015. If sending comments by email, include the name and address of the commenter and send to PCFederalRegister@usps.gov, with a subject line of “July 2025 Domestic Mailing Services Proposal.” Faxed comments are not accepted.

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Steven Mills at (202) 268-7433 or Doriane Harley at (202) 268-2537.

SUPPLEMENTARY INFORMATION: Proposed prices will be available under Docket No. R2025-1 on the Postal Regulatory Commission's website at www.prc.gov.

The Postal Service's proposed rule includes: changes to prices, mail classification updates, product simplification efforts, and revisions to the DMM.

SCF Pallet Discount for First Class Mail

Currently, the Postal Service offers SCF pallet discounts for USPS Marketing Mail. The Postal Service is proposing to extend this discount to First-Class card, letter, and flat-shaped mail on Sectional Center Facilities (SCF) or finer pallets. The discount will be a containerization discount for SCF, 5-Digit and/or 3-Digit Scheme pallets for First-Class Mail.

Elimination of Bundling in First-Class Mail Flat Trays

Currently, First-Class Mail flats can be entered with mixed priced bundles in flat trays which requires additional sortation of discounted mail once in processing. The Postal Service is proposing to eliminate the bundling requirement for First Class Mail flats in flat tubs. Customers would continue to prepare each tub with mail sorted to the 5-digit, 3-digit, and scheme price levels without having to bundle the mail. This change would eliminate the additional processes required to sort and open bundles.

Elimination of Marketing Mail Commercial & Nonprofit Automation Basic CR Letters

Currently, automation Basic Carrier Route letters are priced higher than 5-Digit letters. The Postal Service is proposing the elimination of this rate category as it offers no cost savings for the Postal Service beyond 5-Digit presort and incurs additional costs to process and deliver.

Elimination of Bound Printed Matter and Adjustment of USPS Marketing Mail Rate Structure

On December 20, 2024, the Postal Service filed Docket No. MC2025-948 Request to Remove Bound Printed Matter from the Market-Dominant Product List and MC2025-958 Updates to the Maximum Weight Limit for Marketing Mail. With the filing of Docket No. R2025-1, the Postal Service is proposing alternate rates that would take effect if the elimination of Bound Printed Matter flats and parcels and the increase in the maximum weights for USPS Marketing Mail flats is approved. The details of the proposed rate structure include:

• An increase to the maximum weight limit for USPS Marketing Mail flat-shaped pieces to 20 ounces (24 ounces for carrier route flats).

• Addition of a nonpresorted rate category for USPS Marketing Mail regular and nonprofit flats.

• Introduction of a sub-category of USPS Marketing Mail Parcels named Heavy Printed Matter (HPM) for heavy advertising materials like catalogs that weigh up to 15 pounds. Heavy Printed Matter would include rates for regular and nonprofit presorted, carrier route, and nonpresorted parcels.

• A 5-Digit/Direct Delivery Sort Container discount for Carrier Route Heavy Printed Matter, and SCF Pallet Discounts for Presorted and Carrier Route Heavy Printed Matter.

Elimination of Media and Library Mail Presort Prices

Currently, Media and Library Mail presort price options are underutilized product offerings. The Postal Service is proposing the elimination of presort options in an effort to simplify the product. As proposed, the 5-digit and Basic rate options would be eliminated and single-piece would remain as the available rate category.

Nonprofit Machinable and Nonprofit Irregular Priced Parcels Dimensions

The Postal Service recently revised DMM 201.8.4.2 (PB 22648 4/18/24) to add Nonprofit Machinable Parcels and Nonprofit Irregular Parcels dimensions for consistency with the Mail Classification Schedule. The Postal Service is updating the dimensions of 108 inches in length and girth for consistency with the pricing of the product, machinable parcels. The Postal Service will revise the dimensions to be 22 inches in length, 18 inches in width, and 15 inches in height.

Combine Plus One and Detached Marketing Labels (DML) Products

Currently, Plus One and Detached Marketing Labels are two separate products in Marketing Mail. Detached Marketing Labels (DML) are cards sent with flats that are used for the address which allows the mailpiece to be used for advertising messaging. The Plus One is a separate card allowed to be mailed with a USPS Marketing Mail saturation letter mailpiece. The Postal Service is proposing to merge these two products into one Plus One product which will allow usage with either marriage mail saturation letters or saturations flats.

Eliminate DNDC Entry Discount for USPS Marketing Mail, Periodicals, and Bound Printed Matter

Currently, the Postal Service offers mailers a DNDC entry discount for certain mail classes when the destination addresses of the prepared mail within the container encompasses zip codes served by a specific NDC. Applicable mail classes include USPS Marketing Mail, Periodicals and Bound Printed Matter.

As part of the Delivering for America (DFA) plan, the Postal Service is transforming its processing and transportation network to be more efficient, reliable, logical and cost-effective. One of the key elements of the network transformation is the elimination of NDCs and the associated NDC transportation network. As part of this transformation, NDC entry of mail will be eliminated along with elimination of the DNDC entry discount.

Alaska Bypass Nomenclature Update

Alaska Bypass is no longer priced by zone therefore, the Postal Service is removing all references to zone pricing.

2026 Promotions

The Postal Service has been incenting mailers to integrate mobile technology and use innovative print techniques in commercial mail since 2012. These promotions have become an integral way for industry to try new things and innovate their mail campaigns. A 2026 Promotions Calendar is planned with opportunities for mailers to receive a postage discount by applying treatments or integrating technology in their mail campaigns. In addition to the slated 2026 promotions, the Postal Service is introducing a new promotion incentive “Catalog Insights” which will provide a 10 percent discount for mailers who mail qualifying catalogs, which must be at least twelve pages, bound, and include a list of products or services offered and allow an order to be placed. Qualifying USPS Marketing Mail Letters, Flats, and Parcels will be eligible for the discount, which will run from October 1, 2025 through June 30, 2026. At the same time, the Postal Service is setting the existing Catalog Incentive to $0 so that both catalog discounts are not available at the same time.

Mail Growth Incentives Continuation in Calendar Year 2026

For calendar year 2024, the Postal Service introduced two new incentives designed to promote the growth of First-Class Mail® (the “First-Class Mail Growth Incentive”) and USPS Marketing Mail® (the “Marketing Mail Growth Incentive”). The Postal Service is proposing to continue both incentives for calendar year 2026 and beyond.

Marriage Mail Incentive Extension to High Density Plus Letters and Flats

Currently, the Postal Service offers marriage mailers an incentive price on Saturation USPS Marketing Mail letters and flats (including EDDM-Commercial) that weigh 2 ounces or less, if they meet certain requirements.

The Postal Service is proposing to extend this incentive price to include High Density Plus USPS Marketing Mail letters and flats that meet the incentive requirements.

Among the requirements to be eligible to claim the incentive price is that qualifying Marriage Mail pieces must include at least 4 advertisers and must be mailed at minimum 10 times every 12 months (by the mail owner, starting with the month of first claiming the incentive price).

Information on the requirements to claim the Marriage Mail Incentive price will be posted on PostalPro at postalpro.usps.com.

These proposed revisions will provide consistency within postal products and add value for customers.

List of Subjects in 39 CFR Part 111

Administrative practice and procedure, Postal Service.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

We will publish an appropriate amendment to 39 CFR part 111 to reflect these changes.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

200 Commercial Letters, Cards, Flats, and Parcels

201 Physical Standards

* * * * *

4.0 Physical Standards for Flats

* * * * *

4.7 Ineligible Flat-Size Pieces

Flat-size mailpieces that do not meet the eligibility standards in 4.3 through 4.6 must pay the applicable prices as follows: * * *

[Delete 4.7(a4) in its' entirety:]

* * * * *

Exhibit 4.7b Pricing for Flats Exceeding Maximum Deflection

(see 4.6)

* * * * *

USPS MARKETING MAIL

Eligibility as presented

Eligibility with failed deflection

* * * * *

[Revise the entries beginning with “Nonautomation flat . . .' to read as follows:]

Nonautomation flat (all sort levels with no entry discount)

Nonautomation MADC or None flat

Nonautomation flat (all sort levels entered at DSCF)

Nonautomation MADC flat

[Add an entry at the end of the “USPS Marketing Mail” section to read as follows:]

Nonbarcoded nonpresorted flat

Price as claimed, if otherwise eligible

* * * * *

[Delete the section titled “Bound Printed Matter” in its entirety:]

* * * * *

5.0 Physical Standards for Nonautomation Flats

* * * * *

5.2 USPS Marketing Mail

5.2.1 Basic Physical Standards

These additional standards apply to USPS Marketing Mail flat-size pieces:

[Revise item 5.2.1(a) to read as follows:]

a. Each piece must weigh no more than 20 ounces (24 ounces for carrier route flats).

* * * * *

[Delete 5.3 in its entirety; renumber 5.4 and 5.5 as 5.3 and 5.4 respectively:]

* * * * *

6.0 Physical Standards for Automation Flats

* * * * *

6.2 Additional Criteria for Automation Flats

6.2.1 Shape and Size

[Revise the second sentence of the introductory paragraph of 6.2.1 to read as follows:]

* * * The following minimum and maximum dimensions apply to First-Class Mail, USPS Marketing Mail, and Periodicals (except under 207.26.0) pieces: * * *

6.2.2 Maximum Weight

Maximum weight limits are as follows: * * *

[Revise items 6.2.2(c) to read as follows:]

c. For USPS Marketing Mail, 20 ounces (USPS Marketing Mail Carrier Route, 24 ounces).

[Delete item 6.2.2.(d) in its' entirety:]

* * * * *

8.0 Additional Physical Standards by Class of Mail

* * * * *

8.4 USPS Marketing Mail Parcels

* * * * *

8.4.2 Size

USPS Marketing Mail parcel dimensions and characteristics must be as follows: * * *

* * * * *

[Revise the introductory text of item b to read as follows:]

b. Nonprofit Machinable priced parcel and Nonprofit Nonstandard priced parcel dimensions are as follows:

[Revise the text of items b1 and b2 to read as follows:]

1. A Nonprofit Machinable priced parcel and Nonprofit Nonstandard priced parcel must be large enough to hold the required delivery address, return address, mailing labels, postage, barcode, endorsements, and other mail markings on the address side of the parcel.

2. A Nonprofit Machinable priced parcel and Nonprofit Nonstandard priced parcel must not exceed 22 inches in length, 18 inches in width, or 15 inches in height.

* * * * *

[Add an item (d) to read as follows:]

d. Heavy Printed Matter parcels may not weigh more than 15 pounds.

* * * * *

[Delete 8.6 in its' entirety:]

* * * * *

202 Elements on the Face of a Mailpiece

* * * * *

2.0 Address Placement

* * * * *

2.2 Flats

2.2.1 Basic Standards

[Revise the first sentence of 2.2.1 to read as follows:]

On all Periodicals and USPS Marketing Mail flats mailed at presorted, automation, or carrier route prices, mailers must place the delivery address at least ⅛ inch from any edge of the mailpiece. * * *

2.2.2 Address Placement on Enveloped or Polywrapped Pieces

[Revise the introductory paragraph of 2.2.2 to read as follows:]

The following standards apply to enveloped, polywrapped, or card-type Periodicals (including shrinkwrapped Firm bundles) and USPS Marketing Mail flat-size pieces mailed at presorted, automation, or carrier route prices (for examples, see Customer Support Ruling PS-352.): * * *

* * * * *

2.2.3 Address Placement on Bound or Folded Pieces

[Revise the introductory paragraph of 2.2.3 to read as follows:]

The following standards apply to bound or folded (see 2.2.2 for all card-type pieces), Periodicals and USPS Marketing Mail flat-size pieces mailed at presorted, automation, or carrier route prices not in envelopes or polywrap (for examples, see Customer Support Ruling PS-352.): * * *

* * * * *

2.2.4 Type Size and Line Spacing

[Revise the first sentence of the introductory paragraph of 2.2.4 to read as follows:]

On all First-Class Mail, Periodicals, and USPS Marketing Mail flat-size pieces mailed at presorted, automation, or carrier route prices, mailers must print the delivery address using at least 8-point type (each character must be at least 0.080 inch high). * * *

* * * * *

3.0 Placement and Content of Mail Markings

* * * * *

3.5 First-Class Mail and USPS Marketing Mail Markings

3.5.1 Types of Markings

Mailpieces must be marked under the corresponding standards to show the class of service and/or price paid: * * *

[Add an item a(6) and a(7) to read as follows:]

6. “Heavy Printed Matter” or “HPM”

7. “Nonprofit Heavy Printed Matter” or “Nonprofit HPM”

* * * * *

[Add an item (e) to read as follows:]

e. For Heavy Printed Matter carrier route price mail, the additional required marking is “Carrier Route Presort” (or “CAR-RT SORT”).

* * * * *

[Revise the heading of 3.7 to read as follows:]

3.7 Parcel Select, Media Mail, and Library Mail Markings

3.7.1 Basic Markings

[Revise the first sentence of 3.7.1 to read as follows:]

The basic required marking (i.e., “Parcel Select”, “USPS Connect Local”, “Media Mail”, “Library Mail”) must be printed on each piece claimed at the respective price. * * *

* * * * *

[Delete 3.7.4 through 3.7.6 in its' entirety:]

* * * * *

203 Basic Postage Statement, Documentation, and Preparation Standards

* * * * *

[Revise the title of 3.0 to read as follows:]

3.0 Standardized Documentation for First-Class Mail, Periodicals, and USPS Marketing Mail

3.1 Basic Standards

[Revise the first sentence of 3.1 to read as follows:]

For First-Class Mail, Periodicals, and USPS Marketing Mail documentation to support mail volume and preparation must be produced by standardized documentation according to this section. * * *

3.2 Format and Content

[Revise the introductory paragraph of 3.2 to read as follows:]

For First-Class Mail, Periodicals, and USPS Marketing Mail standardized documentation includes: * * *

d. For bundles on pallets, list these required elements: * * *

[Revise the second sentence of item (d4) to read as follows:]

4. * * * Document sectional center facility/local processing center (SCF/LPC) or area distribution center/regional processing and distribution center (ADC) pallets created as a result of bundle reallocation under 705.8.11, 705.8.12, or 705.8.13 by designating the protected pallet with an identifier of “PSCF” (for an SCF/LPC pallet) or “PADC” (for an ADC pallet). * * *

* * * * *

3.3 Price Level Column Headings

* * * * *

b. Presorted First-Class Mail, barcoded and nonbarcoded Periodicals flats, nonbarcoded Periodicals letters, and machinable, nonmachinable and nonstandard USPS Marketing Mail:

PRICE ABBREVIATION

* * * * *

[Revise the entry beginning with “Mixed NDC to read as follows:]

Mixed [USPS Marketing Mail Nonprofit machinable priced parcels and Marketing Parcels 3.5 ounces and over]

MXD

* * * * *

3.4 Sortation Level

The sortation level (or corresponding abbreviation) is used for the bundle, tray, sack, or pallet levels required under 3.2 and shown below:

SORTATION LEVEL ABBREVIATION

* * * * *

[Revise the entry beginning with “5-Digit Scheme [pallets . . .” to read as follows:]

5-Digit Scheme [pallets, Periodicals flats and irregular parcels, USPS Marketing Mail flats]

* * * * *

[Revise the entry beginning with “SCF [flat trays . . .” to read as follows:]

SCF [flat trays and pallets (Periodicals flats and USPS Marketing Mail); sacks and pallets (nonstandard parcels)]

* * * * *

[Delete the entry “NDC” in its' entirety”]

[Delete the entry “ASF” in its' entirety”]

[Delete the entry beginning with “NDC pallets . . .” in its' entirety]

[Revise the entry beginning with “Mixed NDC . . .” to read as follows:]

Mixed [working] MXD

* * * * *

3.7 Bundle and Container Reports for Outside-County Periodicals Mail

* * * * *

3.7.2 Outside-County Container Report

The container report must contain, at a minimum, the following elements:

* * * * *

d. Container entry level (origin, destination delivery unit/sorting and delivery center [DDU/S&DC], destination sectional center facility/local processing center [DSCF/LPC] (letters/flats), destination sectional center facility/regional processing and distribution center [DSCF/RPDC] (parcels), or destination area distribution center/regional processing and distribution center [DADC].

* * * * *

4.0 Bundles

* * * * *

4.10 Additional Standards for Unsacked/Untrayed Bundles Entered at DDU/S&DC Facilities

[Revise the introductory paragraph of 4.10 to read as follows:]

Mailers may enter unsacked, untrayed, or nonpalletized bundles of carrier-route, Periodicals, USPS Marketing Mail flats, and USPS Marketing Mail Heavy Printed Matter at destination delivery units (DDUs)/sorting and distribution centers (DS&DCs) if all the following conditions are met: * * *

[Revise item (b) to read as follows:]

b. Mailers must enter bundles at DDUs/SDCs according to the appropriate deposit and entry standards (e.g., 207.23.4.2 for Periodicals, 246 for USPS Marketing Mail flats and Heavy Printed Matter).

* * * * *

4.13 Labeling Bundles

[Revise the third sentence of the introductory paragraph of 4.13 to read as follows:]

* * * On flat-size mail or Heavy Printed Matter, place the label anywhere on the address side of the top piece in the bundle. Bundle labels must not be obscured by banding or shrinkwrap. * * *

* * * * *

4.14 Identifying Carrier Route Information

[Revise the last sentence of 4.14 to read as follows:]

* * * These standards apply to Carrier Route Periodicals, Enhanced Carrier Route USPS Marketing Mail, and Carrier Route Heavy Printed Matter mailings.

* * * * *

5.0 Letter and Flat Trays

* * * * *

5.7 Preparation for First-Class Mail Flats in EMM Letter Trays

Mailers may prepare First-Class Mail flat-size pieces in EMM letter trays instead of flat trays if the following standards are met: * * *

[Revise item (c) to read as follows:]

All mail must be prepared under 235.8.0, and must not be prepared in bundles, except pieces in less-than-full trays must be bundled.

* * * * *

7.0 Optional Endorsement Lines (OELs)

* * * * *

Exhibit 7.1.1 OEL Formats

* * * * *

Sortation Level OEL Example

[Revise the line item titled “Firm-BPM machinable parcels” to read as follows:]

Firm—HPM

* * * * * * * * * * * * * * * * * * * * * * * * FIRM 12345

* * * * *

[Revise the line item titled “Carrier Route—Bound Printed Matter” to read as follows:]

Carrier Route—Heavy Printed Matter

* * * * * * * * * * * * * * * * CAR-RT SORT**C-001

* * * * *

7.2 OEL Format

* * * * *

Exhibit 7.2.5 OEL Labeling Lists

PROCESSING CATEGORY AND PRESORT TYPE

ADC/AADC

MIXED ADC/MIXED AADC

* * * * *

[Revise the section titled “Bound Printed Matter” to read as follows:]

Heavy Printed Matter ¹

Nonstandard parcels L004 L009

[Delete sections titled “Media Mail” and “Library Mail” in its' entirety]

* * * * *

[Delete footnote (2) in its entirety:]

* * * * *

204 Barcode Standards

* * * * *

3.0 Standards for Barcoded Tray Labels, Sack Labels, and Container Labels

* * * * *

* * * * *

3.1.2 Container Labels

[Revise item 3.1.2(a) to read as follows:]

a. Intelligent Mail container labels are not required for small mailings of USPS Marketing Mail and Periodicals letters and flats when entered at a BMEU, if the mailing is less than 500 pounds of bundles or sacks, and fewer than 72 linear feet of trays.

* * * * *

3.2 Specifications for Barcoded Tray and Sack Labels

* * * * *

Exhibit 3.2.1 Required Barcoded Tray and Sack Labels

PRICE OR TYPE PROCESSING CATEGORY

First-Class Mail First-Class Mail

* * * * *

[Delete the entry beginning with “Cobundled . . . .” in its' entirety:]

* * * * *

[Delete the “Bound Printed Matter” section in its' entirety:]

* * * * *

Exhibit 3.2.4 3-Digit Content Identifier Numbers

CLASS AND MAILING CIN

HUMAN-READABLE CONTENT LINE

* * * * *

First-Class Mail

* * * * *

[Delete the section titled “FCM Flats—Co-trayed Automation and Presorted” in its' entirety:]

* * * * *

USPS MARKETING MAIL

ECR Letters—Barcoded

[Delete item beginning with “basic price . . . .” in its' entirety]

* * * * *

[Revise the section “PACKAGE SERVICES” to read as follows:]

HEAVY PRINTED MATTER

Carrier Route HPM—Nonstandard Parcels

carrier route sacks | 697 | STD NONSTD CR ¹
5-digit carrier routes sacks | 698 | STD NONSTD CR-RTS
5-digit scheme car. rt. sacks | 698 | STD NONSTD CR-RTS SCH

Presorted HPM—Nonstandard Parcels

5-digit sacks | 690 | STD NONSTD 5D
5-digit scheme sacks | 690 | STD NONSTD 5D SCH
3-digit sacks | 691 | STD NONSTD 3D
SCF sacks | 696 | STD NONSTD SCF
ADC sacks | 692 | STD NONSTD ADC
mixed ADC sacks | 694 | STD NONSTD WKG

Carrier Route HPM—Machinable Parcels

carrier route sacks | 687 | STD MACH CR ¹

Presorted HPM—Machinable Parcels

5-digit sacks | 680 | STD MACH 5D
5-digit scheme sacks | 680 | STD MACH 5D SCH
mixed sacks | 684 | STD MACH WKG

* * * * *

207 Periodicals

* * * * *

3.0 Physical Characteristics and Content Eligibility

* * * * *

3.3 Permissible Mailpiece Components

* * * * *

3.3.3 Enclosures at First-Class Mail or USPS Marketing Mail Prices

Material paid at First-Class Mail or USPS Marketing Mail prices may be enclosed in a Periodicals mailpiece subject to these conditions:

[Revise item (a) to read as follows:]

a. The total weight of all enclosed USPS Marketing Mail material must not exceed 20 ounces.

* * * * *

5.0 Applying for Periodicals Authorization

* * * * *

5.2 Mailing While Application Pending

* * * * *

5.2.2 Pending Periodicals Prices

A publisher or news agent may not mail at Periodicals prices before the PCSC approves the application for Periodicals mailing privileges. Postage may be paid until final action is taken on the application as follows: * * *

[Revise item (b) to read as follows:]

b. For a refund after the application is approved, at USPS Marketing Mail and Parcel Select prices or at single-piece Priority Mail, First-Class Mail, and USPS Ground Advantage—Retail prices under the exception in 5.3.6e.

* * * * *

Exhibit 5.2.3 Pending Periodicals Postage

[Delete the entries beginning with “Bound Printed Matter . . .” in its' entirety:]

* * * * *

14.0 Barcoded (Automation) Eligibility

* * * * *

14.2 Eligibility Standards for Full-Service Automation Periodicals

All pieces entered under the full-service automation option must:

* * * * *

[Revise item (c) to read as follows:]

c. Be scheduled for an appointment through the Facility Access and Shipment Tracking (FAST) system when deposited as a DADC or DSCF drop shipment.

* * * * *

29.0 Destination Entry

* * * * *

[Delete 29.2 in its' entirety; renumber 29.3 through 29.5 as 29.2 through 29.4 respectively:]

* * * * *

230 Commercial Mail First-Class Mail

233 Prices and Eligibility

[Revise the title of 233.4.0 to read as follows:]

4.0 Additional Eligibility Standards for Nonautomation First-Class Mail

* * * * *

4.3 Price Application—Nonautomation Machinable—Letters

* * * * *

[Add a new 4.3.2 to read as follows; renumber the current 4.3.2 as 4.3.3:]

4.3.2 AADC First Class Mail Letter-Shaped Pieces SCF-Pallet Discount Eligibility

The SCF-pallet discount applies to AADC-eligible First Class Mail letter-shaped pieces that are palletized under 705.8.10.1d.

[Newly renumbered 4.3.3]

4.3.3 Mixed AADC Price

The mixed AADC price applies to qualifying letter-size machinable pieces that the mailer prepares in mixed AADC trays, except for pieces placed in mixed AADC trays in lieu of overflow AADC trays (see 235.5.2.2).

* * * * *

4.5 Nonautomation Nonmachinable Price Application—Letters

* * * * *

[Add a new 4.5.2 to read as follows; renumber the current 4.5.2 as 4.5.3:]

4.5.2 5-Digit First Class Mail Letter-Shaped Pieces SCF-Pallet Discount Eligibility

The SCF-pallet discount applies to 5-digit-eligible First-Class Mail letter-shaped pieces that are palletized under 705.8.10.1a.

[Newly renumbered 4.5.3:]

4.5.3 3-Digit Price

The 3-digit price applies to letter-size mail in quantities of 150 or more pieces for a 3-digit ZIP Code prepared in 3-digit trays (overflow pieces in MADC trays and 10 or more pieces bundled in 3-digit origin/entry trays).

[Add a new 4.5.4 to read as follows; renumber the current 4.5.4 as 4.5.5:]

4.5.4 3-Digit First Class Mail Letter-Shaped Pieces SCF-Pallet Discount Eligibility

The SCF pallet discount applies to 3-digit-eligible First-Class Mail letter-shaped pieces that are palletized under 705.8.10.1b, 705.8.10.1c or 705.8.10.1e.

[Newly renumbered 4.5.5:]

4.5.5 Mixed ADC Price

The mixed ADC price applies to letter-size pieces that are subject to nonmachinable prices and prepared in mixed ADC trays.

[Add a new 4.6 to read as follows:]

4.6 Price Application—Nonautomation Cards and Flats—Presorted

Nonautomation cards and flats are subject to presorted and single-piece prices only.

[Add a new 4.6.1 to read as follows:]

4.6.1 Presorted First-Class Mail Cards and Flat-Shaped Pieces SCF Pallet Discount Eligibility

The SCF pallet discount applies to presorted eligible First-Class Mail cards and flat-shaped pieces that are palletized under 705.8.10.1a to 705.8.10.1e.

* * * * *

5.0 Additional Eligibility Standards for Automation First-Class Mail

5.1 Basic Standards for Automation First-Class Mail

All pieces in a First-Class Mail automation mailing must: * * *

[Revise item (f) to read as follows:]

f. Be marked, sorted, and documented as specified in 235.6.0, for letters and cards, or 235.8.0 for flats.

* * * * *

5.4 Price Application—Automation Cards and Letters

* * * * *

[Add new entries 5.4.1 and 5.4.2 to read as follows:]

5.4.1 5-Digit First Class Mail Cards and Letter-Shaped Pieces SCF-Pallet Discount Eligibility

The SCF-pallet discount applies to 5-digit-eligible First-Class Mail cards and letter-shaped pieces that are palletized under 705.8.10.1a.

5.4.2 AADC First Class Mail Cards and Letter-Shaped Pieces SCF-Pallet Discount Eligibility

The SCF-pallet discount applies to AADC-eligible First Class Mail cards and letter-shaped pieces that are palletized under 705.8.10.1b to 705.8.10.1d.

[Delete 5.5 in its' entirety; renumber 5.6 and 5.7 as 5.5 and 5.6 respectively:]

[Revise newly renumbered 5.5 to read as follows:]

5.5 Price Application—Flats

Automation prices apply to each piece that is sorted under 235.8.6, into the corresponding qualifying groups:

a. Groups of 50 or more pieces in 5-digit trays qualify for the 5-digit price. Preparation to qualify for the 5-digit price is optional and need not be done for all 5-digit destinations.

b. Groups of 50 or more pieces in 3-digit trays qualify for the 3-digit price.

c. Groups of fewer than 50 pieces in origin 3-digit trays and all pieces in ADC trays qualify for the ADC price.

d. All pieces in mixed ADC trays qualify for the mixed ADC price.

[Add new entries 5.5.1 through 5.5.3 to read as follows:]

5.5.1 5-Digit First-Class Mail Flat-Shaped Pieces SCF-Pallet Discount Eligibility

The SCF-pallet discount applies to 5-digit-eligible First-Class Mail flat-shaped pieces that are palletized under 705.8.10.1a.

5.5.2 3-Digit First-Class Mail Flat-Shaped Pieces SCF-Pallet Discount Eligibility

The SCF-pallet discount applies to 3-digit-eligible First Class Mail flat-shaped pieces that are palletized under 705.8.10.1b, 705.8.10.1c and 705.8.10.1e.

5.5.3 ADC First-Class Mail Flat-Shaped Pieces SCF-Pallet Discount Eligibility

The SCF-pallet discount applies to ADC-eligible First-Class Mail flat-shaped pieces that are palletized under 705.8.10.1b, 705.8.10.1c, and 705.8.10.1e.

* * * * *

235 Mail Preparation

* * * * *

1.0 General Definition of Terms

* * * * *

1.2 Definition of Mailings

Mailings are defined as: * * *

[Revise the introductory paragraph of 1.2(b) to read as follows:]

b. The types of First-Class Mail listed below must not be part of the same mailing despite being in the same processing category: * * *

* * * * *

1.4 Preparation Definitions and Instructions

For purposes of preparing mail:

* * * * *

[Delete item (o) in its' entirety:]

* * * * *

7.0 Preparation of Nonautomation Flats

* * * * *

7.3 Nonautomation Pieces

[Revise 7.3 to read as follows:]

Nonautomation flats must use the preparation sequence and tray labeling in 7.4. Bundling is not permitted.

[Delete 7.4 in its' entirety; renumber 7.5 and 7.6 as 7.4 and 7.5 respectively:]

[Newly renumbered 7.4:]

7.4 Traying and Labeling

[Revise newly renumbered 7.4 to read as follows:]

Preparation sequence, tray size, and labeling:

a. 5-digit (optional), full trays (no overflow); labeling:

1. Line 1: city, state, and 5-digit ZIP Code on mail (see 203.5.11 for overseas military mail).

2. Line 2: “FCM FLTS 5D NON BC.”

b. 3-digit (optional); full trays (no overflow), except for one less-than-full tray for each origin 3-digit(s); labeling:

1. Line 1: L002, Column A.

2. Line 2: “FCM FLTS 3D NON BC.”

c. ADC (optional); full trays (no overflow); labeling:

1. Line 1: L004, Column B.

2. Line 2: “FCM FLTS ADC NON BC.”

d. Mixed ADC (required); no minimum; labeling:

1. Line 1: Use L201; for mail originating in ZIP Code areas in Column A, use “MXD” followed by city, state, and 3-digit ZIP Code prefix in Column C (use “MXD” instead of “OMX” in the destination line and ignore Column B).

2. Line 2: “FCM FLTS NON BC WKG.”

[Newly renumbered 7.5:]

[Delete 7.5 in its' entirety:]

* * * * *

8.0 Preparation of Automation Flats

* * * * *

8.4 General Preparation

[Revise 8.4 to read as follows:]

Automation flats must use the preparation sequence and tray labeling in 8.5. Bundling is not permitted.

[Delete section 8.5 in its' entirety; renumber 8.6 through 8.8 as 8.5 through 8.7:]

[Newly renumbered 8.5:]

8.5 Traying and Labeling:

[Revise newly renumbered 8.5 to read as follows:]

Tray size, preparation sequence, and Line 1 labeling:

a. 5-digit: optional, but 5-digit trays required for price eligibility (50-piece minimum); one less-than-full or overflow tray allowed; labeling:

1. Line 1: city, state, and 5-digit ZIP Code on mail (see 204.3.0, for overseas military mail).

2. Line 2: “FCM FLTS 5D BC.”

b. 3-digit: optional (50-piece minimum); one less-than-full or overflow tray allowed; labeling:

1. Line 1: L002, Column A.

2. Line 2: “FCM FLTS 3D BC.”

c. Origin 3-digit: required for each 3-digit ZIP Code served by the SCF/LPC of the origin (verification) office; no minimum; labeling:

1. Line 1: L002, Column A.

2. Line 2: “FCM FLTS 3D BC.”

d. ADC: optional (50-piece minimum); one less-than-full or overflow tray allowed; group pieces by 3-digit ZIP Code prefix; labeling:

1. Line 1: L004, Column B.

2. Line 2: “FCM FLTS ADC BC.”

Exception: Pieces are not required to be grouped by 3-digit ZIP Code prefix in ADC trays if the mailing is prepared using an MLOCR/barcode sorter, and standardized documentation is submitted.

e. Mixed ADC (required); no minimum for price eligibility. Group pieces by ADC. labeling:

1. Line 1: Use L201; for mail originating in ZIP Code areas in Column A, use “MXD” followed by city, state, and 3-digit ZIP Code prefix in Column C. (Use “MXD” instead of “OMX” in the destination line and ignore Column B).

2. Line 2: “FCM FLTS BC WKG.”

Mailers using a MLOCR/barcode sorter and submitting standardized documentation need not group pieces by ADC.

* * * * *

[Newly renumbered 8.6]

8.6 5-Digit Scheme Tray Preparation

[Revise newly renumber 8.6 to read as follows:]

Pieces meeting the automation-compatibility criteria in 201.4.0, may be prepared in 5-digit scheme trays for those 5-digit ZIP Code combinations identified in L007. These trays must meet the additional standards in 1.4f.

[Newly renumbered 8.7]

[Delete 8.7 in its' entirety:]

* * * * *

240 Commercial Mail USPS Marketing Mail

243 Prices and Eligibility

1.0 Prices and Fees

* * * * *

1.2 USPS Marketing Mail Prices

USPS Marketing Mail prices are applied as follows:

[Revise item (a) to read as follows:]

a. The appropriate minimum per piece price applies to USPS Marketing Mail automation or machinable letter-sized mailpiece that weighs 3.5 ounces (0.2188 pound) or less, Nonautomation nonmachinable letters that weigh 4.0 ounces (0,25 pounds) or less, flat-sized mailpieces that weighs 4.0 ounces (0.25 pound) or less, nonpresorted flat-sized mailpieces, presorted Marketing Parcels and nonstandard parcels that weighs 3.3 ounces (0.2063 pound) or less, and Heavy Printed Matter nonpresorted parcels.

b. A price determined by adding the per-piece charge and the corresponding per-pound charge applies to any USPS Marketing Mail piece that weighs more than the following: * * *

[Revise items b(3) and b(4) to read as follows:]

3. Nonprofit machinable and Nonprofit nonstandard parcels that weigh more than 3.3 ounces;

4. Machinable parcels that weigh 3.5 ounces or more; and

[Add an item b(5) to read as follows:]

5. Regular and Nonprofit Heavy Printed Matter (HPM) presorted and carrier route parcels.

* * * * *

2.0 Content Standards for USPS Marketing Mail

2.1 General

USPS Marketing Mail consists of mailable matter that: * * *

[Revise items (b) and (c) to read as follows:]

b. Is not authorized to be mailed as Periodicals (unless permitted or required by standard);

c. Weighs no more than 20 ounces (or 24 ounces for carrier route flats); and

[Add an item (d) to read as follows:]

d. Weighs no more than 15 pounds if prepared as Heavy Printed Matter under 9.0. * * *

* * * * *

3.0 Basic Eligibility Standards for USPS Marketing Mail

* * * * *

3.2 Defining Characteristics

3.2.1 Mailpiece Weight

[Revise the introductory paragraph of 3.2.1 to read as follows:]

USPS Marketing Mail parcels and Marketing Parcels must weigh no more than 16 ounces. USPS Marketing Mail presorted and nonpresorted flats must weigh no more than 20 ounces. USPS Marketing Mail carrier route flats must weigh no more than 24 ounces. Heavy Printed Matter parcels must weigh no more than 15 pounds. Flat-size pieces that do not meet the standards in 201.4.3 through 201.4.4 must be prepared as parcels, and the mailer must pay the applicable parcel prices. The following weight limits also apply to pieces mailed at USPS Marketing Mail letter prices: * * *

[Revise the first sentence of item (b) to read as follows:]

b. Pieces mailed at automation carrier route (saturation, high density, and high density plus) letter prices may weigh up to 3.5 ounces. * * *

* * * * *

[Add a 3.2.11 to read as follows:]

3.2.11 Heavy Printed Matter (HPM)

Heavy Printed Matter is a sub-category of Marketing Parcels that includes regular and nonprofit carrier route, presorted, and nonpresorted parcels that weigh no more than 15 pounds. HPM must also meet the additional standards under 9.0.

* * * * *

3.7 Residual Mail Subject to First-Class Mail or USPS Ground Advantage—Retail Prices

The following applies: * * *

[Revise items (b) and (c) to read as follows:]

b. Metered pieces weighing more than 13 ounces and not exceeding 20 ounces that do not qualify for USPS Marketing Mail prices, and any pieces that do not qualify for USPS Marketing Mail prices for which First-Class Mail or USPS Ground Advantage—Retail service is desired, must be re-enveloped or otherwise prepared so that they do not bear USPS Marketing Mail markings, endorsements, and ACS codes and must bear the proper First-Class Mail or USPS Ground Advantage—Retail price markings and ACS codes.

c. Mailers with pieces (other than metered pieces weighing more than 13 ounces and not exceeding 20 ounces) that do not qualify for USPS Marketing Mail prices but that are prepared as USPS Marketing Mail and who do not want First-Class Mail or USPS Ground Advantage—Retail service for those pieces may enter their mailpieces “as is” (i.e., bearing the USPS Marketing Mail markings and endorsements), provided the requirements in 244.1.0, are met.

* * * * *

4.0 Price Eligibility for USPS Marketing Mail

4.1 General Information

The following apply:

[Revise item (a) to read as follows:]

a. USPS Marketing Mail prices are Presorted and Nonpresorted prices (including all nonprofit prices). These prices apply to mailings meeting:

1. Basic standards in 2.0 through 4.0;

2. Corresponding standards for Presorted prices, Nonpresorted prices, Enhanced Carrier Route (ECR) prices, and automation prices under 5.0 through 7.0; or

3. Customized MarketMail prices under 243.8.0.

* * * * *

[Add an item (f) to read as follows:]

f. Heavy Printed Matter (HPM) prices are Carrier Route, Presorted, and Nonpresorted prices (including nonprofit prices). These prices apply to mailings meeting:

1. Basic standards in 2.0 through 4.0; and

2. Corresponding standards for Presorted prices, Carrier Route prices, and Nonpresorted prices under 9.0.

* * * * *

4.2 Minimum Per Piece Prices

The minimum per piece prices (the minimum postage that must be paid for each piece) apply as follows: * * *

c. Individual prices. The following apply: * * *

[Delete item c(2) in its' entirety; renumber items 3 through 6 as 2 through 5 respectively:]

[Revise renumbered item 2 to read as follows:]

2. Except for Customized MarketMail pieces, discounted per-piece prices also may be claimed for destination sectional center facility (DSCF) and destination delivery unit (DDU) under 246.

* * * * *

4.4 Extra Services for USPS Marketing Mail

4.4.1 Available Services

[Revise the introductory paragraph of 4.4.1 to read as follows:]

Only the following extra services may be used with USPS Marketing Mail parcels, with restrictions as noted in 4.4.2; see 9.0 for Heavy Printed Matter: * * *

* * * * *

5.0 Additional Eligibility Standards for Nonautomation USPS Marketing Mail Letters, Flats, and Presorted USPS Marketing Mail Parcels

* * * * *

5.4 Machinable Price Application—Letters

* * * * *

5.4.3 AADC USPS Marketing Mail Letter-Shaped Pieces SCF-Pallet Discount Eligibility

[Revise 5.4.3 to read as follows:]

The SCF-pallet discount applies to AADC-eligible USPS Marketing Mail letter-shaped pieces that are palletized under 705.8.10.3e and 705.8.10.3f and entered at Origin (None) or DSCF/LPC entry.

* * * * *

5.5 Nonmachinable Price Application—Letters

* * * * *

5.5.3 5-Digit USPS Marketing Mail Letter-Shaped Pieces SCF-Pallet Discount Eligibility

* * * * *

[Revise the text of 5.5.3 to read as follows:]

The SCF-pallet discount applies to 5-digit-eligible pieces that are palletized under 705.8.10.3a to 705.8.10.3f and entered at Origin (None) or DSCF/LPC entry.

* * * * *

5.5.5 3-Digit USPS Marketing Mail Letter-Shaped Pieces SCF-Pallet Discount Eligibility

[Revise the text of 5.5.5 to read as follows:]

The SCF pallet discount applies to 3-digit-eligible USPS Marketing Mail letter-shaped pieces that are palletized under 705.8.10.3e and 705.8.10.3f and entered at Origin (None) or DSCF entry.

* * * * *

5.5.7 ADC USPS Marketing Mail Letter-Shaped Pieces SCF-Pallet Discount Eligibility

[Revise the text of 5.5.7 to read as follows:]

The SCF-pallet discount applies to ADC-eligible USPS Marketing Mail letter-shaped pieces that are palletized under 705.8.10.3e and 705.8.10.3f and entered at Origin (None) or DSCF/LPC entry.

* * * * *

5.6 Nonautomation Price Application—Flats

* * * * *

5.6.2 5-Digit USPS Marketing Mail Flat-Shaped Pieces SCF-Pallet Discount Eligibility

* * * * *

[Revise the text of 5.6.2 to read as follows:]

The SCF-pallet discount applies to 5-digit-eligible USPS Marketing Mail flat-shaped pieces that are palletized under 705.8.10.3d, 705.8.10.3e, and 705.8.10.3f and entered at Origin (None) or DSCF/LPC entry.

* * * * *

5.6.4 3-Digit USPS Marketing Mail Flat-Shaped Pieces SCF-Pallet Discount Eligibility

[Revise the text of 5.6.4 to read as follows:]

The SCF-pallet discount applies to 3-digit-eligible USPS Marketing Mail flat-shaped pieces that are palletized under 705.8.10.3e and 705.8.10.3f and entered at Origin (None) or DSCF/LPC entry.

* * * * *

5.6.6 ADC USPS Marketing Mail Flat-Shaped Pieces SCF-Pallet Discount Eligibility

[Revise the text of 5.6.6 to read as follows:]

The SCF-pallet discount applies to ADC-eligible USPS Marketing Mail flat-shaped pieces that are palletized under 705.8.10.3e and 705.8.10.3f and entered at Origin (None) or DSCF/LPC entry.

5.6.7 Mixed ADC Prices for Flats

[Revise the text of 5.6.7 to read as follows:]

Mixed ADC prices apply to flat-size pieces in bundles that do not qualify for 5-digit, 3-digit, or ADC prices; placed in mixed ADC flat trays or on mixed pallets under 705.8.0.

5.7 Prices for Machinable Parcels

5.7.1 5-Digit Price

[Revise the introductory text of 5.7.1 to read as follows:]

The 5-digit price applies to qualifying machinable parcels that are dropshipped to a DSCF/RPDC or DDU/S&DC and presented: * * *

[Delete item (d) in its entirety:]

5.7.2 NDC Price

[Revise the text of 5.7.2 to read as follows:]

The NDC price applies to qualifying machinable parcels presented at the origin acceptance office on a Mixed pallet containing at least 200 pounds of pieces.

[Revise the title of 5.7.3 to read as follows:]

5.7.3 Mixed Price

[Revise the text of 5.7.3 to read as follows:]

The mixed price applies to machinable parcels that are not eligible for 5-digit or NDC prices. Machinable parcels at mixed prices must be placed in mixed sacks or on mixed pallets. See 245.11.3 and 705.8.10.

[Revise the title of 5.8 to read as follows:]

5.8 Prices for Nonstandard Parcels and Marketing Parcels

5.8.1 5-Digit Price

[Revise the introductory paragraph of 5.8.1 to read as follows:]

Five-digit prices apply to nonstandard parcels and to Marketing parcels that are dropshipped to DSCF/DRPDC or DDU or DSDC and presented: * * *

* * * * *

5.8.2 SCF Price

[Revise the text of 5.8.2 to read as follows:]

SCF prices apply to nonstandard parcels and Marketing Parcels as follows under either of the following conditions:

a. When dropshipped to a DSCF/RPDC and presented:

In an SCF/RPDC sack containing at least 10 pounds of parcels.

1. On an SCF/RPDC pallet, according to 705.8.10.

2. In SCF/RPDC containers prepared under 705.21.0.

b. When presented at the origin acceptance office on an SCF/RPDC pallet containing at least 200 pounds of pieces.

5.8.3 NDC Price

[Revise 5.8.3 to read as follows:]

NDC prices apply to nonstandard parcels and to Marketing Parcels when presented at the origin acceptance office on a NDC pallet containing at least 200 pounds of pieces.

[Revise the title of 5.8.4 to read as follows:]

5.8.4 Mixed Price

[Revise 5.8.4 to read as follows:]

Mixed prices apply to nonstandard parcels and to Marketing Parcels in origin NDC/RPDC or Mixed containers that are not eligible for 5-digit, SCF, or NDC prices. Parcels at Mixed prices must be placed in origin NDC/RPDC or mixed sacks under 245.11.4.3 or on origin NDC/RPDC or Mixed pallets under 705.8.10.

* * * * *

6.0 Additional Eligibility Standards for Enhanced Carrier Route USPS Marketing Mail Letters and Flats

6.1 General Enhanced Carrier Route Standards

* * * * *

6.1.2 Basic Eligibility Standards

All pieces in an Enhanced Carrier Route or Nonprofit Enhanced Carrier Route USPS Marketing Mail mailing must: * * *

[Add an item (k) to read as follows:]

k. Flats must not weigh more than 24 ounces.

* * * * *

6.3 Basic Price Enhanced Carrier Route Standards

* * * * *

6.3.3 Basic Carrier Route USPS Marketing Mail Letter-Shaped Pieces SCF-Pallet Discount Eligibility

[Revise 6.3.3 to read as follows:]

The SCF-pallet discount applies to Basic Carrier Route-eligible USPS Marketing Mail letter-shaped pieces that are palletized under 705.8.10.3a to 705.8.10.3f and entered at Origin (None) or DSCF/LPC entry.

* * * * *

6.3.5 Basic Carrier Route Bundles on a 5-Digit/Direct Container (Basic-CR Bundles/Container) Price Eligibility—Flats

[Revise 6.3.5 to read as follows:]

The Basic-CR Bundles/Container discount applies to each piece in a carrier route bundle of 10 or more pieces that are palletized under 705.8.0, 705.10.0, 705.12.0, or 705.13.0 on a 5-digit merged, 5-digit (scheme) merged, 5-digit carrier route or 5-digit scheme carrier route pallet entered at an Origin (None), DSCF, or DDU entry or in a carrier route sack or flat tray under 245.9.7a or 203.5.8 and entered at the DDU.

6.3.6 Basic Carrier Route USPS Marketing Mail Flat-Shaped Pieces SCF-Pallet Discount Eligibility

[Revise 6.3.6 to read as follows:]

The SCF-pallet discount applies to Basic Carrier Route-eligible USPS Marketing Mail flat-shaped pieces that are palletized under 705.8.10.3d, 705.8.10.3e, and 705.8.10.3f and entered at Origin (None) or DSCF/LPC entry.

6.4 High Density and High Density Plus (Enhanced Carrier Route) Standards—Letters

* * * * *

6.4.3 High Density and High Density Plus USPS Marketing Mail Letter-Shaped Pieces SCF-Pallet Discount Eligibility

[Revise 6.4.3 to read as follows:]

The SCF-pallet discount applies to High Density- and High Density Plus-eligible USPS Marketing Mail letter-shaped pieces that are palletized under 705.8.10.3a to 705.8.10.3f and entered at Origin (None) or DSCF/LPC entry.

6.5 High Density and High Density Plus (Enhanced Carrier Route) Standards—Flats

* * * * *

6.5.3 High Density Carrier-Route Bundles on a 5-Digit/Direct Container (High Density-CR Bundles/Container Discount Eligibility)—Flats

[Revise 6.5.3 to read as follows:]

The High Density-CR Bundles/Container discount applies to 125 or more High Density-eligible pieces that are palletized under 705.8.0, 705.10.0, 705.12.0, or 705.13.0 on the following type of pallet entered at an Origin (None), DSCF/LPC, or DDU/S&DC entry, or placed in a carrier-route sack or flat tray under 245.9.7a or 203.5.8 and entered at the DDU/S&DC:

* * * * *

6.5.4 High Density Plus Carrier-Route Bundles on a 5-Digit/Direct Container (High Density Plus-CR Bundles/Container Discount Eligibility)—Flats

[Revise 6.5.4 to read as follows:]

The High Density Plus-CR Bundles/Container discount applies to 300 or more High Density Plus-eligible pieces that are palletized under 705.8.0, 705.10.0, 705.12.0, or 705.13.0 on the following type of pallet entered at an Origin (None), DSCF/LPC, or DDU/S&DC entry, or in a carrier-route sack or tub, under 245.9.7a or 203.5.8, and entered at the DDU/S&DC:

* * * * *

6.5.5 High Density USPS Marketing Mail Flat-Shaped Pieces SCF-Pallet Discount Eligibility

[Revise 6.5.5 to read as follows:]

The SCF-pallet discount applies to 125 or more High Density-eligible USPS Marketing Mail flat-shaped pieces that are palletized under 705.8.10.3d, 705.8.10.3e, and 705.8.10.3f and entered at Origin (None) or DSCF/LPC entry.

6.5.6 High Density Plus USPS Marketing Mail Flat-Shaped Pieces SCF-Pallet Discount Eligibility

[Revise 6.5.6 to read as follows:]

The SCF-pallet discount applies to 300 or more High Density Plus-eligible USPS Marketing Mail flat-shaped pieces that are palletized under 705.8.10.3d, 705.8.10.3e, and 705.8.10.3f and entered at Origin (None) or DSCF/LPC entry.

* * * * *

6.6 Saturation ECR Standards—Letters

* * * * *

6.6.3 Saturation USPS Marketing Mail Letter-Shaped Pieces SCF-Pallet Discount Eligibility

[Revise 6.6.3 to read as follows:]

The SCF-pallet discount applies to at least 90 percent or more of the total number of active residential addresses, or 75 percent or more of the total number of active possible delivery addresses, on each carrier route that are palletized under 705.8.10.3a to 705.8.10.3f and entered at Origin (None) or DSCF/LPC entry.

6.7 Saturation Enhanced Carrier Route Standards—Flats

* * * * *

6.7.3 Saturation—(including EDDM) Carrier-Route Bundles on a 5-digit/Direct Container (Saturation—CR Bundles/Container Discount Eligibility)—Flats

[Revise 6.7.3 to read as follows:]

The Saturation-CR Bundles/Container discount applies to at least 90 percent or more of the total number of active residential addresses or 75 percent or more of the total number of active possible delivery addresses on each carrier route that is palletized under 705.8.0, 705.10.0, 705.12.0, or 705.13.0 on the following type of pallet entered at an Origin (None), DSCF/LPC, or DDU/S&DC entry, or in a carrier-route sack or tub under 245.9.7a or 203.5.8 and entered at the DDU/S&DC:

* * * * *

6.7.4 Saturation USPS Marketing Mail Flat-Shaped Pieces SCF-Pallet Discount Eligibility

[Revise 6.7.4 to read as follows:]

The SCF-pallet discount applies to at least 90 percent or more of the total number of active residential addresses, or 75 percent or more of the total number of active possible delivery addresses, on each carrier route that are palletized under 705.8.10.3d, 705.8.10.3e, and 705.8.10.3f and entered at Origin (None) or DSCF/LPC entry.

7.0 Eligibility Standards for Automation USPS Marketing Mail

* * * * *

7.2 Eligibility Standards for Full-Service Automation USPS Marketing Mail

All pieces entered under the full-service Intelligent Mail automation option must:

* * * * *

[Revise 7.2(c) to read as follows:]

c. Be scheduled for an appointment through the Facility Access and Shipment Tracking (FAST) system when deposited as DSCF drop shipment.

7.3 Maximum Weight for Automation Letters

* * * * *

7.3.2 5-Digit USPS Marketing Mail Letter-Shaped Pieces SCF-Pallet Discount Eligibility

[Revise 7.3.2 to read as follows:]

The SCF-pallet discount applies to 5-digit-eligible USPS Marketing Mail letter-shaped pieces that are palletized under 705.8.10.3a to 705.8.10.3f and entered at Origin (None) or DSCF/LPC entry.

7.3.3 AADC USPS Marketing Mail Letter-Shaped Pieces SCF-Pallet Discount Eligibility

[Revise 7.3.3 to read as follows:]

The SCF-pallet discount applies to AADC-eligible USPS Marketing Mail letter-shaped pieces that are palletized under 705.8.10.3e and 705.8.10.3f and entered at Origin (None) or DSCF/LPC entry.

7.4 Price Application for Automation Letters

* * * * *

7.4.2 5-Digit USPS Marketing Mail Flat-Shaped Pieces SCF-Pallet Discount Eligibility

[Revise 7.4.2 to read as follows:]

The SCF-pallet discount applies to 5-digit-eligible USPS Marketing Mail flat-shaped pieces that are palletized under 705.8.10.3d, 705.8.10.3e, and 705.8.10.3f and entered at Origin (None) or DSCF/LPC entry.

7.4.3 3-Digit USPS Marketing Mail Flat-Shaped Pieces SCF-Pallet Discount Eligibility

[Revise 7.4.3 to read as follows:]

The SCF-pallet discount applies to 3-digit-eligible USPS Marketing Mail flat-shaped pieces that are palletized under 705.8.10.3e and 705.8.10.3f and entered at Origin (None) or DSCF/LPC entry.

7.4.4 ADC USPS Marketing Mail Flat-Shaped Pieces SCF-Pallet Discount Eligibility

[Revise 7.4.4 to read as follows:]

The SCF-pallet discount applies to ADC-eligible USPS Marketing Mail flat-shaped pieces that are palletized under 705.8.10.3e and 705.8.10.3f and entered at Origin (None) or DSCF/LPC entry.

* * * * *

[Add a new section 9.0 to read as follows:]

9.0 Additional Eligibility Standards for Heavy Printed Matter

9.1 Basic Standards

All pieces in a Regular Heavy Printed Matter or Nonprofit Heavy Printed Matter mailing must:

a. Meet the basic standards for USPS Marketing Mail in 2.0 and 3.0 and, for Nonprofit USPS Marketing Mail, the additional standards in 703.1.0.

b. Not be used for “fulfillment purposes” (i.e., the sending of items specifically purchased or requested by the customer of a mailer).

c. Weigh no more than 15 pounds.

d. Exceed the standards of a flat by either weight or ¾″ thickness.

e. Meet the standards in 601.10.0 if prepared as a catalog.

f. Not contain books or other non-eligible matter. Such items may be mailed using another eligible service (i.e., Media Mail, Library Mail, Ground Advantage etc.).

g. Meet a volume of at least 200 pieces or 50 pounds of pieces per mailing (except Heavy Printed Matter nonpresorted, non-discounted mailings).

h. Be marked under the corresponding standards in 203.3.5.1 to show the class of service and/or price paid.

i. Bear an Intelligent Mail barcode (IMb) or an Intelligent Mail package barcode (IMpb) and an Intelligent Mail matrix barcode (IMmb) as outlined in 204.2.0 and Publication 199, Intelligent Mail Package Barcode (IMpb) Implementation Guide for Confirmation Services and Electronic Payment Systems. For details see PostalPro at https://postalpro.usps.com.

9.2 Prices and Fees

9.2.1 Nonpresorted Heavy Printed Matter

Apply the prices and discounts for nonpresorted Heavy Printed Matter (HPM) as follows:

9.2.2 Prices

Nonpresorted HPM prices are based on the weight of a single addressed piece or one pound, whichever is heavier. The nonpresorted price applies to HPM not mailed at the Presorted or carrier route prices. For prices, see Notice 123-Price List.

9.2.3 Price Application

The nonpresorted HPM price is charged per half-pound from 1 through 5 pounds, and per pound from more than 5 through 15 pounds. For pieces weighing 5 pounds or under, any fraction of a half-pound is considered a whole half-pound. For pieces weighing more than 5 but not more than 15 pounds, any fraction of a pound is considered a whole pound. For example, if a HPM item weighs 4.325 pounds, the weight (postage) increment is 4.5 pounds; if an item weighs 6.25 pounds, the weight (postage) increment is 7 pounds. The minimum postage price per piece is the 1-pound price.

9.2.4 Catalog Incentive Discount

Items qualifying as a catalog under 601.10.0 are eligible for an incentive discount when appropriately identified on the postage statement and/or the eDoc.

9.3 Presorted and Carrier Route Heavy Printed Matter

Apply the prices, fees, and discounts for Regular and Nonprofit Presorted and Carrier Route Heavy Printed Matter as follows:

9.3.1 Prices

Postage is based on the price that applies to the weight (postage) increment (up to 15 pounds) of each addressed piece. For prices, see Notice 123-Price List.

9.3.2 Price Application

The presorted Heavy Printed Matter price and Carrier Route price has a per piece charge and a per pound charge. The minimum postage price for an addressed piece is one unit of the per piece charge plus the per pound charge for an addressed piece weighing one pound. The following pallet discounts apply to Presorted and Carrier Route Heavy Printed Matter:

a. The SCF-pallet discount applies to Presorted and Carrier Route eligible Heavy Printed Matter parcels that are palletized and entered at Origin (None) or DSCF/LPC entry.

b. The Delivery Sort Container discount applies to each Heavy Printed Matter carrier route parcel palletized under 705.8.0 on a 5-digit carrier route or 5-digit scheme carrier route pallet entered at an Origin (None), DSCF, or DDU entry or in a carrier route sack under 245.13.5 and entered at the DDU.

9.3.3 Heavy Printed Matter Destination Entry Prices

Each piece is subject to both a piece price and a pound price.

9.3.4 Determining Single-Piece Weight

To determine single-piece weight in a mailing of identical-weight pieces, weigh a sample of at least 10 randomly selected pieces and divide the total sample weight by the number of pieces. Express all single-piece weights in decimal pounds rounded off to two decimal places.

9.3.5 Computing Postage

Presorted and Carrier Route Heavy Printed Matter mailings are charged a per pound price and a per piece price as follows:

a. Per pound price:

1. For pieces weighing 1 pound or less, compute the per pound price by multiplying the total number of addressed pieces by the 1-pound price for the price category. Do not round this result.

2. For pieces weighing more than 1 pound, compute the per pound price by multiplying the unrounded total weight of the addressed pieces by the pound price for the category. Do not round this result.

b. Per piece price. Multiply the total number of addressed pieces by the applicable piece price.

c. Total Postage. Calculate total postage by adding the total per piece calculation to the total per pound calculation. Round off the total postage to the nearest whole cent.

9.3.6 Catalog Incentive Discount

Items qualifying as a catalog under 601.10.0 are eligible for an incentive discount when appropriately identified on the postage statement and/or the eDoc.

9.4 Extra Services for Heavy Printed Matter

9.4.1 Available Services

Only the following extra services may be used with Heavy Printed Matter parcels:

a. USPS Tracking (electronic option only).

b. Certificate of mailing, as provided in 503.5.0.

9.4.2 Additional Preparation Requirements

An eligible mailpiece with an extra service must bear a return address under 602.1.0, and an ancillary service endorsement under 507.1.0. Pieces with USPS Tracking must bear one of the required endorsements: “Address Service Requested”, “Forwarding Service Requested”, “Return Service Requested”, or “Change Service Requested”.

* * * * *

244 Postage Payment and Documentation

1.0 Basic Standards for Postage Payment

[Revise the first sentence of 1.0 to read as follows:]

Postage for USPS Marketing Mail, including Customized Market Mail and Presorted and Carrier Route Heavy Printed Matter, must be paid with precanceled stamps, metered postage, or permit imprint as specified in 2.0. * * *

[Add a sentence at the end of 1.0 to read as follows:]

Nonpresorted Heavy Printed Matter postage must be paid via permit imprint.

* * * * *

5.0 Residual Pieces

* * * * *

5.2 Residual USPS Marketing Mail Subject to USPS Ground Advantage—Retail Prices

[Revise the first sentence of the introductory paragraph to read as follows:]

Mailers of permit imprint pieces weighing more than 13 ounces but not exceeding 20 ounces that do not qualify for USPS Marketing Mail prices but that are prepared as USPS Marketing Mail must pay the USPS Ground Advantage—Retail postage for such pieces. * * *

* * * * *

245 Mail Preparation

1.0 General Information for Mail Preparation

* * * * *

1.3 Terms for Presort Levels

1.3.1 Letters

Terms used for presort levels are defined as follows: * * *

[Delete item (j) in its' entirety; renumber items (k) and (l) as (j) and (k) respectively:]

* * * * *

1.3.2 Flats

Terms used for presort levels are defined as follows: * * *

[Delete item (o) in its' entirety; renumber items (p) and (q) as (o) and (p) respectively:]

* * * * *

1.3.3 Marketing Parcels

Terms used for presort levels are defined as follows: * * *

[Revise item (e) to read as follows:]

e. NDC: All pieces are addressed for delivery in the service area of the same network distribution center (NDC)/regional processing and distribution center (RPDC). (See L601, L602, or L605).

* * * * *

[Revise item (g) to read as follows:]

g. Mixed: the pieces are for delivery in the service area of more than one RPDC.

* * * * *

1.4 Preparation Definitions and Instructions

For purposes of preparing mail: * * *

[Revise item (u) to read as follows:]

u. Entry [facility] (or origin [facility]) refers to the USPS mail processing facility (e.g., “entry SCF”) that serves the Post Office at which the mail is entered by the mailer. If the Post Office where the mail is entered is not the one serving the mailer's location (e.g., for plant-verified drop shipment), the Post Office of entry determines the entry facility. Entry SCF/LPC (letter and flats) and Entry SCF/RPDC (parcels) includes both single-3-digit and multi-3-digit SCFs.

* * * * *

5.0 Preparing Nonautomation Letters

5.3 Machinable Preparation

* * * * *

5.3.2 Traying and Labeling

* * * * *

c. Mixed AADC (required); no minimum; labeling:

[Revise item c(1) to read as follows:]

1. Line 1: L011, Column B. Use L010, Column B, for mail placed on an SCF/LPC pallet under the option in 705.8.10.3. * * *

* * * * *

5.4 Nonmachinable Preparation

* * * * *

5.4.2 Traying and Labeling

* * * * *

d. Mixed ADC (required); no minimum; labeling:

[Revise item d(1) to read as follows:]

1. Line 1: L011, Column B. Use L010, Column B, for mail placed on an SCF/LPC pallet under the option in 705.8.10.3.

* * * * *

6.0 Preparing Enhanced Carrier Route Letters

* * * * *

6.7 Traying and Labeling for Automation-Compatible ECR Letters

* * * * *

a. Carrier route: required; full trays only, no overflow.

[Revise item a(2) to read as follows:]

2. Line 2: for saturation, “STD LTR BC WSS,” followed by route type and number; for high-density, “STD LTR BC WSH,” followed by route type and number.

* * * * *

7.0 Preparing Automation Letters

* * * * *

7.5 Tray Preparation

* * * * *

[Revise item (c) to read as follows:]

c. Mixed AADC: required (no minimum); group pieces by AADC when overflow pieces from AADC trays are placed in mixed AADC trays. For Line 1 labeling: use L011, Column B. Use L010, Column B for mail placed on an SCF/LPC pallet under the option in 705.8.10.3.

* * * * *

11.0 Preparing Presorted Parcels

* * * * *

11.3 Preparing Machinable Marketing Parcels (3.5 Ounces or More) and Nonprofit Machinable Priced Parcels

11.3.1 Sacking

The following apply: * * *

[Revise item (b) to read as follows:]

b. Prepare 5-digit sacks only for parcels dropshipped to a DSCF/DSCF, or DDU or DS&DC.

[Delete item (c) in its' entirety; renumber items (d) through (f) as (c) through (e) respectively:]

[Revise renumbered item (f) to read as follows:]

f. Mailers combining machinable Marketing Parcels (3.5 ounces or more) with Nonprofit machinable-priced parcels placed in NDC/RPDC or mixed sacks must prepare the sacks under 11.3.2.

11.3.2 Sacking and Labeling

[Revise 11.3.2 to read as follows:]

Preparation sequence, sack size, and labeling:

a. 5-digit/scheme (optional, but required for 5-digit price), see definition in 1.4n.; allowed only for mail deposited at a DSCF/RPDC or DDU/S&DC. Sacks must contain a 10-pound minimum except at DDU/S&DC entry, which has no minimum; labeling:

1. Line 1: For 5-digit scheme sacks, use L606, Column B. For 5-digit sacks, use city, state, and 5-digit ZIP Code destination on pieces (see 203.5.11 for overseas military mail).

2. Line 2: For 5-digit scheme sacks, “STD MACH 5D SCH.” For 5-digit sacks, “STD MACH 5D.”

Origin NDC (required); no minimum; labeling:

3. Line 1: L601, Column B.

4. Line 2: “STD MACH NDC.”

b. Mixed (required); no minimum; labeling:

1. Line 1: Use “MXD” followed by L601, Column B information for RPDC serving 3-digit ZIP Code prefix of entry Post Office.

2. Line 2: “STD MACH WKG.”

* * * * *

11.4 Preparing Nonstandard Marketing Parcels (Less Than 3.5 Ounces) and Nonprofit Nonstandard Priced Parcels

* * * * *

11.4.2 Sacking

The following apply: * * *

[Revise item (b) to read as follows:]

b. Prepare 5-digit sacks only for parcels dropshipped to a DSCF/RPDC or DDU or SDC. See 11.4.3 for restrictions on SCF/RPDC sacks.

* * * * *

11.4.3 Sacking and Labeling

[Revise 11.4.3 to read as follows:]

Preparation sequence, sack size, and labeling:

a. 5-digit/scheme (optional, but required for 5-digit price), see definition in 1.4n; allowed only for mail deposited at a DSCF/RPDC, or DDU/S&DC. Sacks must contain a 10-pound minimum except at DDU/S&DC entry, which has no minimum; labeling:

1. Line 1: For 5-digit scheme sacks, use L606, Column B. For 5-digit sacks, use city, state, and 5-digit ZIP Code destination on pieces (see 203.5.11 for overseas military mail).

2. Line 2: For 5-digit scheme sacks, “STD NONSTD 5D SCH.” For 5-digit sacks, “STD NONSTD 5D.”

b. SCF; allowed only for mail deposited at a DSCF/RPDC to claim the SCF price; 10-pound minimum; labeling:

1. For Line 1, Use L002, Column C.

2. For Line 2, “STD NONSTD SCF.”

Origin NDC (required); no minimum; labeling:

3. Line 1: L601, Column B.

4. Line 2: “STD NONSTD NDC.”

c. Mixed (required); no minimum; labeling:

1. Line 1: “MXD” followed by L601, Column B information for facility serving 3-digit ZIP Code prefix of entry Post Office.

2. Line 2: “STD NONSTD WKG.”

* * * * *

[Add a section 13.0 to read as follows:]

13.0 Preparing Heavy Printed Matter

13.1 Basic Preparation—Nonpresorted

There are no presort, sacking, or labeling standards for nonpresorted Heavy Printed Matter.

13.2 Basic Standards

All mailings and all pieces in each mailing at Heavy Printed Matter and Nonprofit Heavy Printed Matter prices are subject to the standards in 1.0 to 4.0, and to these general standards:

a. Each mailing must meet the applicable standards in 202.3.0, 243, 245, and 246.

b. All pieces in a mailing must be within the same processing category. See 201.7.0 for definitions of machinable and nonstandard parcels.

c. All pieces must be sorted to the finest extent possible.

d. All parcels must be marked according to 202.3.0.

13.3 Preparing Nonstandard Parcels

13.3.1 Piece Preparation

Bundling is not permitted for pieces weighing 10 pounds or more except under 13.3.3.

13.3.2 Required Sacking

A sack must be prepared when the quantity of mail for a presort destination reaches 20 pounds. Smaller volumes are not permitted (except mixed ADC sacks). Optional 5-digit scheme and optional SCF sacks may be prepared only when there are at least 20 pounds. Smaller volumes are not permitted.

13.3.3 Sacking and Labeling

Preparation sequence and labeling:

a. 5-digit/scheme, see definition in 1.4n; allowed only for mail deposited at a DSCF/RPDC or DDU/SDC. Sacks must contain a 10-pound minimum except at DDU/SDC entry, which has no minimum; labeling:

1. Line 1: For 5-digit scheme sacks, use L606, Column B. For 5-digit sacks, use city, state, and 5-digit ZIP Code destination on pieces (see 203.5.11 for overseas military mail).

2. Line 2: For 5-digit scheme sacks, “STD NONSTD 5D SCH.” For 5-digit sacks, “STD NONSTD 5D.”

b. SCF; allowed only for mail deposited at a DSCF/RPDC to claim the SCF price; 10-pound minimum; labeling:

1. For Line 1, Use L002, Column C.

2. For Line 2, “STD NONSTD SCF.”

c. Origin (required); no minimum; labeling:

1. Line 1: L601, Column B.

2. Line 2: “STD NONSTD NDC.”

d. Mixed (required); no minimum; labeling:

1. Line 1: “MXD” followed by L601, Column B information for facility serving 3-digit ZIP Code prefix of entry Post Office.

2. Line 2: “STD NONSTD WKG.”

13.4 Preparing Machinable Parcels

13.4.1 Required Sacking

A sack must be prepared when the quantity of mail for a presort destination reaches either 10 addressed pieces or 20 pounds, whichever occurs first. Smaller volumes are not permitted (except mixed sacks). 5-digit scheme sacks may be prepared only when there are at least 10 addressed pieces or 20 pounds, whichever occurs first. Smaller volumes are not permitted. Sacking also is subject to these conditions:

a. Identical-weight pieces that weigh 2 pounds or less must be prepared using the 10-piece minimum; those that weigh more must be prepared using the 20-pound minimum.

b. For nonidentical-weight pieces, mailers must use either the minimum that applies to the average piece weight for the entire mailing (divide the net weight of the mailing by the number of pieces; the resulting average single-piece weight determines whether the 10-piece or 20-pound minimum applies) or sack by the actual piece count or mail weight for each bundle destination, provided that documentation can be provided with the mailing that shows (specifically for each sack) the number of pieces and their total weight.

c. Mailers must note on the postage statement whether they applied the piece count or weight except for USPS Ship mailings prepared under 705.2.9.

13.4.2 Sacking and Labeling

Preparation sequence and labeling:

a. 5-digit/scheme, see definition in 1.4n.; allowed only for mail deposited at a DSCF/RPDC or DDU/SDC. Sacks must contain a 10-pound minimum except at DDU/SDC entry, which has no minimum; labeling:

1. Line 1: For 5-digit scheme sacks, use L606, Column B. For 5-digit sacks, use city, state, and 5-digit ZIP Code destination on pieces (see 203.5.11 for overseas military mail).

2. Line 2: For 5-digit scheme sacks, “STD MACH 5D SCH.” For 5-digit sacks, “STD MACH 5D.”

b. Origin (required); no minimum; labeling:

1. Line 1: L601, Column B.

2. Line 2: “STD MACH NDC.”

c. Mixed (required); no minimum; labeling:

1. Line 1: Use “MXD” followed by L601, Column B information for RPDC serving 3-digit ZIP Code prefix of entry Post Office.

2. Line 2: “STD MACH WKG.”

13.5 Preparing Carrier-Route Parcels

13.5.1 Basic Standards

13.5.2 General Standards for Carrier Route Preparation

All mailings of carrier-route Heavy Printed Matter (HPM) are subject to the standards in 13.6 through 13.7 and to these general standards:

a. Each mailing must meet the applicable eligibility standards in 243, mail preparation standards in 2.0, through 4.0, and deposit and entry standards in 246.

b. All pieces in a mailing must be within the same processing category as described in 201.7.0. A Heavy Printed Matter nonstandard parcel is a piece that is not a machinable parcel as defined in 201.7.5.1. Nonstandard parcels also are pieces that meet the size and weight standards for a machinable parcel but are not individually boxed or packaged to withstand processing on RPDC parcel sorters under 601.3.0 and 601.4.0.

c. All pieces must be sorted to the finest extent possible under 9.0, or palletized under 705.8.0.

d. Subject to 202.3.0, pieces must be marked “Heavy Printed Matter” (or “HPM”) and “Carrier Route Presort” (or “CAR-RT SORT”).

13.5.3 Residual Pieces

Residual pieces not sorted under 13.6 and 13.7 may be prepared as a Presorted Heavy Printed Matter mailing under 13.0, provided that they are part of the same mailing job and reported on the same postage statement. Residual pieces paid at the presorted price do not need to meet a separate 200 piece/50 pound minimum. These pieces must be separated from the Carrier Route portion when presented to the USPS for verification.

13.6 Preparing Nonstandard Parcels Weighing Less Than 10 Pounds

13.6.1 Bundle Preparation

Bundling is not required in direct carrier route sacks. Otherwise, a carrier route bundle (or bundles) must be prepared when the quantity of addressed pieces for a carrier route reaches a minimum of 10 pieces or 20 pounds, whichever occurs first. Smaller volumes are not permitted. The maximum weight of each physical bundle is 40 pounds. Each bundle must contain at least two addressed pieces except for the last bundle for each carrier route destination under 203.4.10. Bundles must be labeled with a facing slip unless the bundle is labeled using a carrier route information line (204.3.0) or an optional endorsement line (203.7.0). Bundling also is subject to these conditions:

a. Identical-weight pieces that weigh 2 pounds or less must be prepared using the 10-piece minimum; those that weigh more must be prepared using the 20-pound minimum.

b. For nonidentical-weight pieces, mailers must either use the minimum that applies to the average piece weight for the entire mailing (divide the net weight of the mailing by the number of pieces; the resulting average single-piece weight determines whether the 10-piece or 20-pound minimum applies), or bundle by the actual piece count or mail weight for each bundle destination, provided that documentation can be provided with the mailing that shows (specifically for each bundle) the number of pieces and their total weight.

c. Mailers must note on the accompanying postage statement whether they applied the piece count, weight, or both.

13.6.2 Required Sacking

Mailers may prepare nonstandard parcels as unsacked bundles under 203.4.10 or in bundles on pallets. Otherwise, mailers must prepare a direct carrier route sack when the quantity of mail for an individual carrier route reaches either 10 addressed pieces or 20 pounds, whichever occurs first; smaller volumes are not permitted. Mailers then must place remaining bundles in 5-digit scheme carrier routes sacks or 5-digit carrier routes sacks, which have no minimum sack size. Carrier route sacks also are subject to these conditions:

a. Identical-weight pieces that weigh 2 pounds or less must be prepared using the 10-piece minimum; those that weigh more must be prepared using the 20-pound minimum.

b. For nonidentical-weight pieces, mailers must either use the minimum that applies to the average piece weight for the entire mailing (divide the net weight of the mailing by the number of pieces; the resulting average single-piece weight determines whether the 10-piece or 20-pound minimum applies), or sack by the actual piece count or mail weight for each sack destination, provided that documentation can be provided with the mailing that shows (specifically for each sack) the number of pieces and their total weight.

c. Mailers must note on the accompanying postage statement whether they applied the piece count or weight.

13.6.3 Sack Preparation

Sack preparation sequence and Line 1 labeling:

a. Carrier route: required; for Line 1, use city, state, and 5-digit ZIP Code on mail (see 203.5.11 for overseas military mail).

b. 5-digit scheme carrier routes: optional (no minimum); for Line 1, use L606, Column B.

c. 5-digit carrier routes: required (no minimum); for Line 1, use city, state, and 5-digit ZIP Code destination of bundles (for military mail, the ZIP Code is preceded by the prefixes under 4.0).

13.6.4 Sack Label Line 2

Line 2 information:

a. Carrier route: “STD NONSTD CR,” followed by the route type and number.

b. 5-digit scheme carrier routes: “STD NONSTD CR-RTS SCH.”

c. 5-digit carrier routes: “STD NONSTD CR-RTS.”

13.7 Preparing Nonstandard Parcels Weighing 10 Pounds or More

Mailers may prepare nonstandard parcels as unsacked bundles under 203.4.10 or in bundles on pallets. When preparing nonstandard parcels in sacks, place parcels only in direct carrier-route sacks. Each carrier route sack must contain a minimum of 20 pounds. Required preparation:

a. Line 1: use city, state, and 5-digit ZIP Code destination of the pieces.

b. Line 2: “STD NONSTD CR,” followed by the route type and number.

13.7 Preparing Machinable Parcels

13.7.1 Required Carrier Route Sacking

Machinable parcels may be prepared only in direct carrier route sacks. Each carrier route sack must contain a minimum of 10 addressed pieces or 20 pounds, whichever occurs first. Carrier route sacks also are subject to these conditions:

a. Identical-weight pieces that weigh 2 pounds or less must be prepared using the 10-piece minimum; those that weigh more must be prepared using the 20-pound minimum.

b. For nonidentical-weight pieces, mailers must use either the minimum that applies to the average piece weight for the entire mailing (divide the net weight of the mailing by the number of pieces; the resulting average single-piece weight determines whether the 10-piece or 20-pound minimum applies), or sack by the actual piece count or mail weight for each sack destination, provided that documentation can be provided with the mailing that shows (specifically for each sack) the number of pieces and their total weight.

c. Mailers must note on the accompanying postage statement whether they applied the piece count or weight.

13.7.2 Sack Label

Required preparation:

a. Line 1: Use city, state, and 5-digit ZIP Code destination of the pieces.

b. Line 2: “STD MACH CR,” followed by the route type and number.

* * * * *

246 Enter and Deposit

1.0 Presenting a Mailing

1.1 Basic Standards for USPS Marketing Mail Deposit

[Revise the introductory paragraph of 1.1 to read as follows:]

All USPS Marketing Mail must be presented at the Post Office where the permit or license is held and the presort mailing fee is paid, at the locations and times specified by the postmaster, except as follows: * * *

[Revise item (d) to read as follows:]

d. Nonprofit USPS Marketing Mail (including Nonprofit Heavy Printed Matter) must be presented only at Post Offices where the organization producing the mailing has an approved nonprofit authorization (703.1.0).

[Add an item (e) to read as follows:]

e. Nonpresorted Heavy Printed Matter postage must be paid via permit imprint and be deposited and accepted at the Post Office that issued the permit, at a time and place designated by the postmaster, except as otherwise provided for plant-verified drop shipments under 604.5.0.

* * * * *

2.0 Destination Entry

* * * * *

2.6 Deposit

* * * * *

2.6.3 Appointments

Appointments must be made for destination entry-price mail as follows:

[Revise the first sentence of item (a) to read as follows:]

a. Except as provided under 2.6.3b, or for a local mailer and mailings of perishable commodities under 2.6.13, appointments for deposit of destination entry price mail at SCFs must be scheduled through the appropriate drop-shipment appointment control center at least one business day in advance. * * *

* * * * *

2.6.5 Adherence to Schedule

[Revise the second sentence of 2.6.5 to read as follows:]

* * * Destination facilities may refuse acceptance or deposit of unscheduled mailings or shipments that arrive more than 2 hours after the scheduled appointment at SCFs/LPCs or more than 20 minutes after the scheduled appointment at delivery units.

2.6.6 Redirection by USPS

[Revise 2.6.6 to read as follows:]

A mailer may be directed to transport destination entry-price mailings to a facility other than the designated DDU/S&DC, SCF/LPC (letters/flats), or SCF/RPDC (parcels) due to facility restrictions, building expansions, peak-season mail volumes, or emergency constraints.

* * * * *

2.6.9 Vehicle Unloading

Unloading of destination entry mailings is subject to these conditions:

[Revise items (a) and (b) to read as follows:]

a. Properly prepared containerized loads (e.g., pallets) are unloaded by USPS at SCFs/LPCs. The USPS does not unload or permit the mailer (or mailer's agent) to unload palletized loads that are unstable or severely leaning or that have otherwise not maintained their integrity in transit.

b. At SCFs/LPCs, the driver must unload bedloaded shipments within 8 hours of arrival. Combination containerized and bedloaded mailings are classified as bedloaded shipments for unload times. The USPS may assist in unloading.

* * * * *

[Delete 3.0 in its' entirety; renumber 4.0 and 5.0 as 3.0 and 4.0 respectively:]

* * * * *

4.0 Destination Sectional Center Facility (DSCF)/Local Processing Center (LPC) Entry

* * * * *

[Add a 4.4 to read as follows:]

4.4 Heavy Printed Matter DSCF/LPC/RPDC Entry

4.4.1 Eligibility

Heavy Printed Matter pieces in a mailing meeting the standards in 3.0 are eligible for the DSCF price when they meet all of the following additional conditions:

a. Are eligible for and prepared to qualify for Presorted or Carrier Route prices, subject to the corresponding standards for those prices.

b. Are deposited at a DSCF/RPDC listed in L005 or a USPS-designated facility and are addressed for delivery within the DSCF's/RPDC's service area.

c. Are placed in a sack or on a pallet that is labeled to the DSCF/RPDC or labeled to a destination within its service area. This includes sacks labeled to an ADC facility with the exact same service area as the DSCF/RPDC.

* * * * *

5.0 Destination Delivery Unit (DDU)/Sorting and Delivery Center (S&DC) Entry

* * * * *

[Add a 5.3 to read as follows:]

5.3 Heavy Printed Matter DDU/SDC Entry

5.3.1 Eligibility

Pieces in a mailing meeting the standards in 2.0, and 5.3 are eligible for the DDU price when they meet all of the following conditions:

a. Are eligible for and prepared to qualify for Presorted or Carrier Route prices, subject to the corresponding standards for those prices.

b. Are addressed for delivery within the ZIP Code(s) served by the destination delivery unit.

c. For parcels prepared using the optional 5-digit scheme sort, use Column B of L606 to determine the 5-digit scheme destination. For parcels prepared using the 5-digit sort, the Drop Shipment Product must be used to determine the 5-digit destination. To determine the location for entry of 5-digit sorted pieces or whether a 5-digit delivery facility can handle pallets (or pallet boxes), refer to the Drop Shipment Product maintained by the National Customer Support Center (NCSC) (see 608.8.1). When the Drop Shipment Product shows that mail for a single 5-digit ZIP Code area is delivered out of more than one postal facility, use the facility from which the majority of city carrier routes are delivered as the facility at which the DDU mail must be entered. The Drop Shipment Product identifies the 5-digit ZIP Codes that are exceptions to the “majority of city carriers rule” or other facilities where parcels are normally dropped. If a mailer transports mail to a DDU/S&DC facility that cannot handle pallets, the driver must unload the pallets into containers that the delivery unit specified.

5.3.2 Presorted Machinable Parcels

Presorted machinable parcels in 5-digit scheme and 5-digit sacks or on 5-digit scheme and 5-digit pallets may claim DDU prices. Mail must be entered at the appropriate facility.

5.3.3 Presorted Nonstandard Parcels

Customers mailing presorted nonstandard parcels in 5-digit scheme sacks and 5-digit sacks, on 5-digit scheme or 5-digit pallets, or prepared as unsacked 5-digit bundles may claim DDU prices. Mailers must enter mail at the appropriate facility.

5.3.4 Carrier Route Machinable Parcels

Carrier Route machinable parcels sorted to carrier route sacks may claim DDU prices. Mail must be entered at the appropriate facility.

5.3.5 Carrier-Route Nonstandard Parcels

Customers mailing carrier-route nonstandard parcels in sacks, on 5-digit scheme and 5-digit pallets, or prepared as unsacked carrier route bundles may claim DDU prices. Mailers must enter mail at the appropriate facility.

* * * * *

256 Enter and Deposit

* * * * *

2.0 Deposit

* * * * *

2.18 DNDC/DRPDC Parcel Select — Acceptance at Designated SCF/RPDC

Mailers may deposit parcels otherwise eligible for the DNDC prices at an SCF/RPDC that USPS designated for destination ZIP Codes listed in labeling list L607. The following standards apply: * * *

[Revise item (b) to read as follows:]

b. USPS Marketing Mail machinable parcels under 705.6.0 may be included.

* * * * *

[Delete section “260 Commercial Mail Bound Printed Matter” in its' entirety:]

* * * * *

270 Commercial Mail Media Mail and Library Mail

273 Prices and Eligibility

* * * * *

1.0 Prices and Fees

* * * * *

[Revise 1.2 to read as follows]

1.2 Prices

Media Mail and Library Mail prices are based on the weight of the piece. See Notice 123—Price List for single-piece prices.

* * * * *

5.0 Basic Eligibility Standards for Media Mail and Library Mail

* * * * *

[Delete section 5.5 in its' entirety]

* * * * *

[Delete section 7.0 in its' entirety]

* * * * *

275 Mail Preparation

[Revise section 275 to read as follows:]

1.0 Preparation for Media Mail and Library Mail

1.1 Basic Preparation

There are no presort, sacking, or labeling standards for single-piece Media Mail or Library Mail.

1.2 Delivery and Return Addresses

All Media Mail and all Library Mail must bear a delivery address that includes the correct ZIP Code or ZIP+4 code. Each piece must bear the sender`s return address.

1.3 Basic Markings

The applicable basic required marking—“Media Mail” or “Library Mail”—must be printed on each piece in the postage area, or it may be printed on the shipping address label according to the standards in 102.3.4.

* * * * *

276 Enter and Deposit

Overview

[Revise 1.0 to read as follows:]

1.0 Deposit for Media Mail and Library Mail

1.0 Deposit for Media Mail and Library Mail

Single-piece Media Mail and Library Mail with a permit imprint must be deposited at locations and times specified by the postmaster at the office that verifies and accepts the mailing. Metered mail may be deposited at other than the licensing Post Office only as permitted under 705.19.0.

* * * * *

500 Additional Mailing Services

503 Extra Services

* * * * *

1.0 Basic Standards for All Extra Services

* * * * *

Exhibit 1.4.1 Eligibility—Domestic Mail

EXTRA SERVICE ELIGIBLE MAIL

ADDITIONAL COMBINED EXTRA SERVICES

[In “Insurance Restricted Delivery” section delete entry for “Bound Printed Matter”:]

[In “Certificate of Mailing” section delete entry for “Bound Printed Matter”:]

[In “Return Receipt” section delete entry for “Bound Printed Matter”:]

[In “Signature Confirmation” section delete entry for “Bound Printed Matter”:]

[In “Signature Confirmation Restricted Delivery” section delete entry for “Bound Printed Matter”:]

[In “COD Restricted Delivery” section delete entry for “Bound Printed Matter”:]

* * * * *

7.0 USPS Tracking

* * * * *

[Revise the title of 7.1.2 to read as follows:]

7.1.2 Electronic Option USPS Tracking for USPS Marketing Mail and Heavy Printed Matter Parcels

[Revise the first and second sentences of 7.1.2 to read as follows:]

If electronic option USPS Tracking is requested for all parcels in a USPS Marketing Mail or Heavy Printed Matter mailing and the pieces are of identical weight, then postage may be paid only with metered postage or permit imprint under 244.2.0. Electronic-option USPS Tracking may be purchased for USPS Marketing Mail parcels and Heavy Printed Matter parcels by mailers using privately printed forms or labels, or Label 888, and who establish an electronic link with the USPS to exchange acceptance and delivery data. * * *

* * * * *

7.1.3 Additional Physical Standards

[Revise the last sentence of the introductory paragraph to read as follows:]

* * * * In addition to the applicable standards in 101 and 201 and the purposes of USPS Tracking with Media Mail, Library Mail, or Parcel Select, the parcel must meet these additional requirements: * * *

* * * * *

8.0 USPS Signature Services

* * * * *

8.1.2 Standards for Signature Confirmation

[Revise the introductory paragraph to read as follows:]

For Signature Confirmation with Media Mail, Library Mail or Parcel Select pieces meeting the physical standards under 201.7.0, the parcel must meet these additional requirements: * * *

* * * * *

507 Mailer Services

* * * * *

1.0 Treatment of Mail

* * * * *

1.5 Treatment for Ancillary Services by Class of Mail

* * * * *

Exhibit 1.5.4 Treatment of Undeliverable Package Services and Parcel Select

MAILER ENDORSEMENT USPS Treatment of UAA Pieces

[In the “No Endorsement” section delete the “Exception” in its' entirety]

* * * * *

[In the “Change Service Requested” section “Option 2” delete the text in parenthesis beginning with “Available via ACS. . .” in its' entirety]

* * * * *

1.7 Mixed Classes

* * * * *

[Delete 1.7.4 in its entirety:]

* * * * *

3.0 Hold For Pickup

* * * * *

3.2 Basic Information

* * * * *

3.2.2 Basic Eligibility

[Revise the second sentence of 3.2.2 to read as follows:]

* * * It is also available with commercial mailings of Priority Mail Express presented under 213.4.2 or 213.4.3, Priority Mail, and USPS Ground Advantage—Commercial, when: * * *

* * * * *

4.0 Address Correction Services

4.1 Address Correction Service

* * * * *

4.1.5 Other Classes

Address correction service for classes other than Periodicals under 4.1.4 is provided as follows:

a. When possible, “on-piece” address correction is provided for the following mailpieces:

[Revise 4.1.5a(5) to read as follows:]

5. USPS Marketing Mail (including Heavy Printed Matter parcels); * * *

* * * * *

4.2 Address Change Service (ACS)

* * * * *

4.2.2 Service Options

ACS offers five levels of service, as follows: * * *

[Revise the first sentence of item (d) to read as follows:]

d. A Full Service option available to mailings of First-Class Mail automation cards, letters, and flats; USPS Marketing Mail automation letters and flats; USPS Marketing Mail Carrier Route, High Density, and Saturation letters; Periodicals Outside County barcoded or Carrier Route letters and flats; and Periodicals In-County automation or Carrier Route letters and flats. * * *

* * * * *

4.2.6 Additional Standards—When Using Intelligent Mail Barcodes

[Revise the third and fourth sentence of the introductory paragraph to read as follows:]

* * * Address Service, Change Service, and Return Service Ancillary Services are available for letters and flat-sized mailpieces mailed as First-Class Mail and USPS Marketing Mail by choosing the appropriate ACS Service Type Identifier in the Intelligent Mail barcode. USPS Marketing Mail pieces with ACS that include an Intelligent Mail barcode require using a printed-on-piece endorsement. * * *

* * * * *

5.0 Package Intercept

5.1 Description of Service

* * * * *

5.1.2 Eligibility

Except under 5.1.3, Package Intercept service is available for the following mailpieces with a tracking barcode (excluding COD Hold For Pickup mailpieces), addressed to, from, or between domestic destinations (608.2.0) that do not require a customs declarations label: * * *

[Delete item (g) in its' entirety; renumber items (h) and (i) as (g) and (h) respectively;]

* * * * *

5.2 Postage, Fees, and Payment Methods

5.2.1 Postage and Fees

The customer must pay a nonrefundable per-piece fee after USPS successfully intercepts the mailpiece. Payment of postage and additional fees is as follows: * * *

[Revise the first sentence of item (b) to read as follows:]

b. Except for USPS Ground Advantage-oversized-priced pieces under 5.2.1c and Parcel Select-oversized-priced pieces under 5.2.1d, intercepted Parcel Select, Media Mail and Library Mail pieces that are redirected to the sender, and all intercepted mailpieces that are redirected to a new delivery address or a Post Office as Hold For Pickup (3.0), are relabeled and handled as a new Priority Mail piece. * * *

* * * * *

11.0 USPS Tracking Plus Service

* * * * *

11.2 Scan Data Retention

USPS Tracking Plus service is available for scan data retention on mailpieces shipped via the following products: * * *

[Delete item (g) in its' entirety; renumber item (h) as (g):]

[Revise renumbered (g) to read as follows:]

g. USPS Marketing Mail, Nonprofit USPS Marketing Mail parcels, and Heavy Printed Matter parcels with purchased USPS Tracking and Nonprofit USPS Marketing Mail parcels with a trackable extra service.

* * * * *

508 Recipient Services

* * * * *

7.0 Premium Forwarding Services

* * * * *

7.2 Premium Forwarding Service Residential

* * * * *

7.2.6 Weekly Priority Mail Shipments

Premium Forwarding Service Residential shipments are dispatched weekly (on Wednesday) as Priority Mail with USPS Tracking service. Regardless of any mailer`s ancillary service endorsement on a mailpiece, and provided it fits within the shipment container, all mail is included in the weekly Priority Mail shipment, except as follows: * * *

[Revise item (b3) to read as follows:]

3. Heavy Printed Matter, Media Mail, Library Mail, and Parcel Select pieces are rerouted separately and charged postage due at the appropriate single-piece price for the class or subclass of mail in which the piece was originally shipped.

* * * * *

[Revise item (d2) to read as follows:]

2. Heavy Printed Matter, Media Mail, Library Mail, and Parcel Select pieces are rerouted postage due at the appropriate single-piece price for the class, or subclass, of mail the mailpiece was originally shipped plus the postage due amount already indicated on the mailpiece.

* * * * *

600 Basic Standards for All Mailing Services

601 Mailability

* * * * *

10.0 Catalogs

[Revise the second sentence of 10.0 to read as follows:]

* * * A catalog mailpiece may be letter-shaped, flat-shaped or parcel-shaped, and is mailed at USPS Marketing Mail and Heavy Printed Matter rates. * * *

* * * * *

602 Addressing

* * * * *

1.0 Elements of Addressing

* * * * *

1.5 Return Addresses

* * * * *

1.5.3 Required Use of Return Addresses

The sender's domestic return address must appear legibly on: * * *

[Revise item (h) to read as follows:]

h. Package Services.

* * * * *

3.0 Use of Alternative Addressing

* * * * *

3.2 Simplified Address

3.2.1 Conditions for General Use

The following conditions must be met when using a simplified address on commercial mailpieces: * * *

[Revise the introductory paragraph of item (b) to read as follows:]

b. USPS Marketing Mail and Periodicals flat-size mailpieces (including USPS Marketing Mail pieces allowed as flats under 3.2.1c), and Periodicals nonstandard parcels for distribution to a city route or to Post Office boxes in offices with city carrier service may bear a simplified address, but only when complete distribution is made under the following conditions: * * *

* * * * *

[Revise the Title of 4.0 to read as follows:]

4.0 Detached Address Labels (DALs)

4.1 General

4.1.1 Definition

[Revise the text of 4.1.1 to read as follows:]

Detached address labels (DALs) in its' basic form (4.3.1 through 4.3.5) may be used by mailers as an optional method of printing addresses and postage indicia instead of printing addresses and postage on the items mailed. For these standards, “item” refers to the types of eligible mail described in 4.2.1 through 4.2.3.

4.1.2 Alternative Address Format

[Revise the text of 4.1.2 to read as follows:]

DALs may have alternative addressing formats under 3.0, subject to the applicable standards under 4.0.

4.1.3 Ancillary Service Endorsements

[Revise the text of 4.1.3 to read as follows:]

Ancillary service endorsements are not permitted. A DAL that is undeliverable as addressed is handled under 507.1.1 through 507.1.9 for the applicable class of mail. The accompanying item is treated as specified by the mailer under 4.5.

4.1.4 Documentation

[Revise the text of 4.1.4 to read as follows:]

When requested by USPS, DAL mailers must provide documentation to establish that the applicable distribution standards in 4.2.1 through 4.2.3 are met.

4.1.5 Extra Services

[Revise the text of 4.1.5 to read as follows:]

Items mailed with DALs may not be combined with any extra service.

4.2 Eligible Mail

4.2.1 Periodicals or USPS Marketing Mail Flats Saturation Mailings

[Revise the text of 4.2.1 to read as follows:]

Saturation mailings of only unaddressed Periodicals (207.23.9.4) or USPS Marketing Mail (245.9.10.4) flats may be mailed with DALs, but DALs may not bear simplified addresses when used with USPS Marketing Mail flats. Saturation flat mailings presented with DALs that are not automation-compatible and correctly barcoded do not qualify for saturation prices. Instead, they may be entered at applicable basic carrier route prices. This standard (for automation-compatible barcoded DALs) does not apply to DALs with simplified addressing when correctly used with Periodicals flats.

[Delete 4.2.2 in its' entirety:]

4.3 Label Preparation

4.3.1 Label Construction

[Revise the text of 4.3.1 to read as follows:]

Each DAL must be made of paper or cardboard stock that is not folded, perforated, or creased, and that meets these measurements:

a. Between 3½ and 5 inches high (perpendicular to the address).

b. Between 5 and 9 inches long (parallel to the address).

c. At least 0.007 inch thick, except under 4.3.1d.

d. If more than 4¼ inches high or more than 6 inches long, must be at least 0.009 inch thick.

e. Must have an aspect ratio (length divided by height) from 1.3 to 2.5, inclusive.

4.3.2 Addressing

[Revise the text of 4.3.2 to read as follows:]

The address for each item must be placed on a DAL, parallel to the longest dimension of the DAL, and may not appear on the item it accompanies. The DAL must contain a delivery address and a return address. In addition, if DALs accompany saturation mailings of Periodicals or USPS Marketing Mail flats, a correct Intelligent Mail barcode with an 11-digit routing code must be printed on each DAL except when using a simplified address for Periodicals flats as allowed by standards.

[Revise 4.3.3 in its' entirety to read as follows:]

4.3.3 One DAL Per Item

Only one DAL may be prepared for each accompanying item, and only one item may be identified for delivery per DAL. (A single DAL may not be prepared to deliver one each of different accompanying items or multiples of the same item.)

4.3.4 Required Information

[Revise the text of 4.3.4 to read as follows:]

The following words must appear in bold type at least ⅛ inch high on the front of each DAL: “USPS regulations require that this address label be delivered with its accompanying postage-paid mail. If you should receive this label without its accompanying mail, please notify your local postmaster”; The title or brand name of the item (which may include an illustration of the item) must also appear on the front or back of the DAL to associate it with the accompanying item.

* * * * *

[Delete 4.3.6 in its' entirety:]

4.4 Mail Preparation

4.4.1 Notice to Delivery Office

[Revise the text of 4.4.1 to read as follows:]

Each delivery office to receive a DAL mailing must be notified in writing at least 10 days before the requested delivery period begins. To ensure that the delivery office can readily relate the notice to the cartons containing the corresponding items, a copy of that letter must be enclosed with the DALs unless the initial notice and the cartons used for the DALs and items each conspicuously bears a mailing identification number. The letter must contain the following information:

a. Name and telephone number of mailer or representative.

b. Origin Post Office of mailing.

c. Expected mailing date.

d. Description of mailing.

e. Number of addressees for each 5-digit ZIP Code.

f. Number of DALs per carton or bundle.

g. Number of items per carton or bundle.

h. Expected delivery period (range of dates).

i. Requested action for excess or undeliverable DALs or items (see 4.5).

[Revise 4.4.2 in its' entirety to read as follows:]

4.4.2 Basic Standards for DALs

The following apply:

a. The DALs must be presorted, counted, and prepared by 5-digit ZIP Code delivery area.

b. Only DALs for the same 5-digit area may be placed in the same carton, sack, or tray.

c. DAL mailings claimed at carrier-route basic or walk-sequence prices must be further prepared under the corresponding standards.

d. Mailers must prepare DALs as bundles in sacks or in cartons, unless prepared in trays under 4.4.6 when mailed with saturation flats.

e. Different size cartons may be used in the same mailing, but each must be filled with dunnage as necessary to ensure that the DALs retain their orientation and presort integrity while in transit.

f. Each carton of DALs must bear a label showing the information in 4.4.5 unless a mailing identification number is used (see 4.4.1).

g. Multiple containers of DALs must be numbered sequentially (“1 of _,” “2 of _,” etc.).

[Revise 4.4.3 in its' entirety to read as follows:]

4.4.3 Basic Standards for Items Distributed with DALs

The following apply:

a. Except for bundles of saturation flats placed directly on pallets under 4.4.7, the items to be distributed with DALs must be placed in cartons or prepared in bundles placed in flat trays/sacks, subject to the standards for the price claimed.

b. A label bearing the content description information in 4.4.5 must be affixed to each carton, trayed/sacked bundle, or pallet unless a mailing identification number is used (see 4.4.1).

c. Cartons of items (including those on pallets) may differ in size, but must be filled with dunnage as necessary to ensure the integrity of the items while in transit.

d. The gross weight of each carton or flat tray/sack must not be more than 40 pounds.

4.4.4 Combined Cartons

[Revise the text of 4.4.4 to read as follows:]

DALs and the accompanying items may be enclosed in the same carton when sent to a small volume 5-digit ZIP Code area. If the DALs and the accompanying items are packed together, these standards apply:

a. The DALs must be bundled and labeled under 4.4.2 and placed on top of the items.

b. The carton must be packed with dunnage to ensure the integrity of the contents while in transit.

c. The gross weight of the carton must not exceed 40 pounds.

d. The exterior of the carton must be labeled under 4.4.5 and marked “DALs ENCLOSED” in letters not less than ½ inch high.

4.4.5 Container Labels

[Revise the text of 4.4.5 to read as follows:]

Sacks, flat trays, cartons, and pallets of DAL mail must be labeled under the preparation standards for the price claimed. A second label must be affixed to each bundle in a carton, flat tray, or sack to provide the following information (unless a mailing identification number is used under 4.4.1):

a. Delivery Post Office name and 5-digit ZIP Code delivery area.

b. Title, brand name, or other description of the items.

c. Name and telephone number of the mailer or representative.

d. Number of labels or items in the carton, as applicable.

e. Instructions to open and distribute either the DALs with matching items or the items with matching DALs as appropriate.

4.4.6 Optional Tray and Bundle Preparation

[Revise the text of 4.4.6 to read as follows:]

The following apply:

a. Mailers may prepare DALs in letter trays according to 245.9.0 when DALs are used in mailings of saturation flats.

b. Bundles of saturation flats to be distributed with DALs may be prepared on 5-digit pallets under 4.4.7.

c. Pallets must not be used when the Drop Shipment Product specifies that the delivery unit that serves the 5-digit pallet destination cannot handle pallets. For such delivery units, mail with DALs must be prepared in cartons, flat trays, or sacks. The tray(s) of corresponding DALs must be placed on top of the accompanying pallet of flats, and the pallet contents must be secured with stretchwrap to avoid separation in transportation and processing.

d. All containers must be labeled according to 4.4.5.

4.4.7 Optional Container Preparation

[Revise the text of 4.4.7 to read as follows:]

Bundles of flats and cartons, flat trays, or sacks of items may be placed on pallets meeting the standards in 705.8.0. Cartons or trays of DALs must be placed on pallets with the corresponding items under 4.4 and 705.8.0. The USPS plant manager at whose facility a DAL mailing is deposited may authorize other containers for the portion of the mailing to be delivered in that plant's service area.

4.5 Disposition of Excess or Undeliverable Material

[Revise the text of 4.5 to read as follows:]

The letter required under 4.4.1 must either request that the delivery office contact the mailer (or representative) about excess DALs, items, or provide instructions for their treatment. (If the mailer does not provide information about excess DALs, or items, such material is disposed of as waste by the USPS.) The mailer must choose one of the following options for each DAL mailing and the items:

a. Disposal of any excess material as waste.

b. Return of the excess material to the mailer, postage due at the applicable single-piece price under 4.6.

c. Holding of the excess material for pickup by the mailer (or representative). If pickup is not made within 15 calendar days of the notice to the mailer, the material is returned to the mailer postage due.

d. Holding of the excess material while additional DALs or items are supplied (as applicable). If additional material is not supplied within 15 days of the notice to the mailer, the excess material is returned to the mailer postage due. Additional material must be sent prepaid to the delivery Post Office as First-Class Mail, USPS Ground Advantage—Retail, Priority Mail, or Priority Mail Express.

4.6 Postage

4.6.1 Prices

[Revise the text of 4.6.1 to read as follows:]

DAL mailings are not eligible for automation prices, but the pieces may qualify for carrier route prices, subject to applicable standards. Mailers must pay a surcharge for each DAL used with USPS Marketing Mail flats. See Notice 123—Price List for prices.

4.6.2 Postage Computation and Payment

[Revise the text of 4.6.2 to read as follows:]

Postage is computed based on the combined weight of the item and the accompanying DAL. If the number of DALs and items mailed is not identical, the number of pieces used to determine postage is the greater of the two. No postage refund is allowed in these situations. In addition, these methods of postage payment apply:

a. Periodicals flats must be prepaid. A notice of entry must appear in the upper right corner of the DAL.

b. USPS Marketing Mail flats (except EDDM flats) and parcels must be paid by permit imprint, which must appear on each DAL.

c. A surcharge applies to each DAL used in a USPS Marketing Mail flats mailing.

4.6.3 Returns

[Revise the text of 4.6.3 to read as follows:]

Postage for excess or undeliverable DALs that are properly endorsed, or for items being returned, is computed at the single-piece price (First-Class Mail, USPS Ground Advantage—Retail, Priority Mail, or Package Services) applicable to the combined weight of the DAL and the accompanying item, regardless of whether both are returned. The total amount due for returned material, which includes the return postage and the applicable address correction fee for each DAL or item returned, is collected when the material is returned to the mailer.

4.6.4 Additional Items

[Revise the text of 4.6.4 to read as follows:]

Postage for additional material (DALs or items) mailed to the USPS under 4.5d must be prepaid as First-Class Mail, Priority Mail, or Priority Mail Express, subject to the eligibility standards for the price claimed and the conditions in 4.6.2.

* * * * *

6.0 ZIP Code Accuracy Standards

6.1 Basic Standards

[Revise the introductory paragraph of 6.1 to read as follows:]

Except for mail bearing a simplified address, addresses used on pieces in a mailing at all commercial First-Class Mail, nonbarcoded presorted Periodicals, and USPS Marketing Mail price are subject to the ZIP Code accuracy standard and must meet these requirements: * * *

* * * * *

7.0 Carrier Route Accuracy Standard

7.1 Basic Standards

[Revise the last sentence of the introductory paragraph of 7.1 to read as follows:]

* * * Addresses used on pieces claimed at any Periodicals carrier-route prices or USPS Marketing Mail Enhanced Carrier Route prices, or Heavy Printed Matter carrier-route prices are subject to the carrier-route accuracy standard and must meet the following requirements: * * *

* * * * *

11.0 Commercial Plus One Mailpieces

11.1 Definition

[Revise the text of 11.1 to read as follows:]

The commercial mail Plus One product is a bundled offering, including a host Marriage Mail (combining multiple advertisers within a single mailpiece) mailpiece and a Plus One card. Both the host mailpiece and the Plus One card must meet the applicable basic standards of a USPS Marketing Mail saturation letter or saturation flat as specified in 245.6.0 and 245.9.0 and meet automation standards with a correct mailing address and Intelligent Mail barcode. For flat-sized host mailpieces, the host piece must be entered at a DDU, SDC or DSCF/LPC. The Plus One Card must be entered at a DSCF/LPC within 2 business days from entering the host mail piece to receive Plus One pricing. For letter-sized host mailpieces, the host piece must be entered at a DSCF/LPC. The Plus One Card must be entered at a DSCF/LPC within 2 business days from entering the host mailpiece to receive Plus One pricing.

The Plus One mailpiece (card) must meet the following additional standards:

a. Be used to advertise a company that has advertised in the Marriage Mail host for at least 6 months.

b. Be addressed to the same delivery points as the host mailpiece.

c. Be sorted and presented separately from the host piece.

d. Must not exceed 6 inches long by 11 inches high.

e. Must be at least 0.009 inches thick and card stock.

f. Must have “Plus One” marking directly below Permit indicia.

11.2 Mail Preparation

[Revise the text of 11.2 to read as follows:]

Each Plus One mailing must be trayed and labeled according to 245.6.7 or 245.9.7. Palletized mailings must be prepared according to 705.8.10.3.

* * * * *

604 Postage Payment Methods and Refunds

* * * * *

4.0 Postage Meters and PC Postage Products (“Postage Evidencing Systems”)

4.1 Basic Information

* * * * *

4.1.5 Authorized Classes of Mail

[Revise 4.1.5 to read as follows:]

Mailers may use postage evidencing systems, as provided by standard, to affix or apply indicia on any class of mail except Periodicals.

* * * * *

5.0 Permit Imprint (Indicia)

* * * * *

5.1.2 Minimum Volume

Permit imprint mailings must contain at least 200 pieces or 50 pounds of mail, except: * * *

[Revise item (e) to read as follows:]

e. USPS Marketing Mail flats and Heavy Printed Matter nonpresorted, non-discounted mailings.

[Revise item (g) to read as follows:]

f. A mailing containing 50 pieces or 50 pounds of nonpresorted single-piece domestic mail parcels submitted under the terms of an approved Manifest Mailing System (including USPS Ship) agreement under 705.2.0. Mailers may include any combination of the following products under this provision: Priority Mail Express (USPS Ship only), Priority Mail, USPS Ground Advantage—Commercial parcels, and single-piece Media Mail and Library Mail parcels. Parcels in USPS-provided packaging, including Flat Rate Envelopes and Boxes, may be included.

* * * * *

5.1.5 Application Fee

[Revise 5.1.5 to read as follows:]

An application fee is required only when a permit imprint is used as the payment method for First-Class Mail, USPS Marketing Mail and international mail, and the mailer does not use USPS Ship. If a customer pays a permit imprint application fee, it is accepted for domestic and/or international outbound mailings.

* * * * *

5.3 Indicia Design, Placement, and Content

* * * * *

5.3.7 USPS Marketing Mail, Parcel Select and Package Services Format

[Revise the first sentence of 5.3.7 to read as follows:]

A USPS Marketing Mail, Parcel Select, or Package Services permit imprint indicia must contain the same information required in 5.3.6, except that the USPS Marketing Mail (Standard Mail), Parcel Select, or applicable Package Services (Media Mail or Library Mail) marking must be used instead of “First-Class Mail”. * * *

* * * * *

5.3.9 Use of a Company Permit Imprint

* * * * *

[Revise the second sentence of item 5.3.9(b) to read as follows:]

b. * * * On unendorsed USPS Marketing Mail, the return address is permitted below the indicia. * * *

* * * * *

Exhibit 5.3.11 Indicia Formats for Official Mail and Other Classes

[Revise Exhibit 5.3.11 under “Package Services Official Mail” to delete the PRSRT Bound Printed Matter indicia:]

[Revise Exhibit 5.3.11 under “Package Services” to delete the Bound Printed Matter and Media Mail indicia:]

* * * * *

7.0 Computing Postage

7.1 General Standards

7.1.1 Determining Single-Piece Weight for Retail and Commercial Mail

[Revise the third sentence of 7.1.1 to read as follows:]

* * * Express all single-piece weights in decimal pounds rounded off to two decimal places for the following mailpieces: Priority Mail Express, Priority Mail, Parcel Select, Media Mail, and Library Mail prices. * * *

* * * * *

9.0 Exchanges and Refunds

* * * * *

9.2 Postage and Fee Refunds

* * * * *

9.2.3 Full Refund

A full refund (100 percent) may be made when: * * *

[Revise the first sentence of item (h) to read as follows:]

h. An annual presort mailing fee is paid for Presorted First-Class Mail or USPS Marketing Mail and no mailings are made during the corresponding 12-month period. * * *

* * * * *

608 Postal Information and Resources

* * * * *

2.0 Domestic Mail

* * * * *

2.6 Alaska Bypass Service

2.6.1 Prices

[Revise 2.6.1 to read as follows:]

Alaska Bypass Service prices are based on the weight of the shipment.

* * * * *

700 Special Standards

703 Nonprofit USPS Marketing Mail and Other Unique Eligibility

* * * * *

9.0 Mixed Classes

* * * * *

9.2 Eligibility for Attachments of Different Classes

* * * * *

9.2.2 Price Qualification

If a Periodicals, USPS Marketing Mail, Parcel Select, or Package Services host piece qualifies for: * * *

[Revise the first sentence of item (d) to read as follows:]

d. A destination entry price (DDU, DSCF, or DADC), a USPS Marketing Mail attachment is eligible for the comparable destination entry price. * * *

* * * * *

9.3 Eligibility for an Enclosure in Periodicals Publication

* * * * *

9.3.2 Loose Enclosure

A loose enclosure may be mailed with a bound Periodicals publication only if: * * *

[Revise item (b) to read as follows:]

b. For USPS Marketing Mail matter, the total weight of all enclosed material does not exceed 20 ounces (24 ounces for carrier route flats).

* * * * *

[Delete 9.6 in its' entirety; and renumber 9.7 through 9.13 as 9.6 through 9.12 respectively:]

* * * * *

[Delete renumbered 9.11 in its' entirety; renumber 9.12 as 9.11 respectively:]

* * * * *

705 Advanced Preparation and Special Postage Payment Systems

* * * * *

2.0 Manifest Mailing System

* * * * *

2.3 Keyline

* * * * *

2.3.5 Unique ID Number Location—Itemized Mailings

[Revise the last sentence of 2.3.5 to read as follows:]

* * * The numbers must be printed in overall ascending order, or in ascending order within each zone, 5-digit, or 3-digit ZIP Code area on the manifest.

2.4 Authorization

* * * * *

2.4.3 General Requirements for Authorization

General requirements for authorization are as follows: * * *

[Revise the last sentence of item c(3) to read as follows:]

3. * * * Parcels mis-shipped at destination SCFs are handled through parcel sampling and are treated as underpaid parcels.

* * * * *

2.4.5 Approval Authority

* * * * *

b. The director, Business Acceptance Solutions, USPS Headquarters, approves MMS that produce the following:

[Revise 2.4.5(b2) to read as follows:]

2. Parcel Select presort mailings;

* * * * *

5.0 First-Class Mail or USPS Marketing Mail Mailings With Different Payment Methods

* * * * *

5.2 Postage

* * * * *

5.2.6 Single-Piece Price Mail

[Revise 5.2.6 to read as follows:]

With USPS approval, trays of single-piece price mail may be placed on the origin SCF/LPC pallet (First-Class Mail), or the mixed pallet (USPS Marketing Mail), after USPS verification is completed.

* * * * *

6.0 Combining Mailings of USPS Marketing Mail, Package Services, and Parcel Select Parcels

6.1 Basic Standards for Combining Parcels

6.1.1 Basic Standards

USPS Marketing Mail parcels, Package Services parcels, and Parcel Select parcels in combined mailings must meet the following standards: * * *

[Revise item (c) to read as follows:]

c. Mailers must pay all applicable presort mailing fees.

[Revise the first sentence of item (d) to read as follows:]

d. Minimum volume requirements for USPS Marketing Mail and Parcel Select must be met separately and are based solely on the quantity of pieces eligible for each price at the required presort level. * * *

* * * * *

[Delete 6.2 in its' entirety; renumber 6.3 and 6.4 as 6.2 and 6.3 respectively:]

* * * * *

[Newly renumbered as 6.2]

6.2 Combining Parcels—DSCF and DDU Prices

6.2.1 Qualification

Combination requirements for specific discounts and prices are as follows:

[Revise items (a) and (b) to read as follows:]

a. When the mailer pays DSCF prices, Parcel Select and USPS Marketing Mail parcels may be combined under 6.2.

b. All USPS Marketing Mail parcels may be combined with Parcel Select parcels prepared for DDU prices under 6.2.

6.2.2 Preparation and Prices

Combined parcels must be prepared as follows:

[Revise items (a), (b), and (b)1 through (b)4 to read as follows:]

a. Minimum Mailing Volume. Separate minimum mailing volume requirements must be met for USPS Marketing Mail parcels and for Parcel Select parcels.

b. Parcel Select Qualifying for DSCF Prices. Mailers must prepare the combined mailings under the applicable 5-digit scheme and 5-digit sack requirements in 255.4.2 or the applicable 5-digit scheme and 5-digit pallet requirements in 8.0 for the Parcel Select DSCF prices. All other requirements for Parcel Select DSCF prices, and USPS Marketing Mail prices, as applicable, must be met.

1. If sacked under 255.4.2, the minimum requirement of seven pieces per sack must be met with Parcel Select parcels. After the minimum sack volume has been met, USPS Marketing Mail parcels may be included in the sack or in overflow sacks.

2. If palletized under the option to prepare 5-digit scheme or 5-digit pallets when there are at least 50 pieces and 250 pounds per pallet, this pallet minimum must be met with only Parcel Select parcels. After the minimum pallet volume has been met, USPS Marketing Mail parcels may be included on the pallet or in overflow sacks.

3. If palletized under the alternate pallet preparation where no pallet may contain less than 35 pieces and 200 pounds, provided the average number of pieces on pallets qualifying for the DSCF price is at least 50, USPS Marketing Mail parcels may not be combined with Parcel Select parcels.

4. If palletized under the option to prepare 5-digit scheme or 5-digit pallets under the 36-inch-high (mail only) pallet minimum, any combination of USPS Marketing Mail and Parcel Select parcels may be used to meet the minimum pallet-height requirement.

* * * * *

[Revise items (c) and (c)1 to read as follows:]

c. Parcel Select and USPS Marketing Mail parcels qualifying for DDU prices:

1. The combined mailings must be prepared under the applicable 5-digit scheme and 5-digit sack requirements in 245.4.0 or the applicable 5-digit scheme and 5-digit pallet requirements in 8.20 for the Parcel Select.

* * * * *

[Revise the title of newly renumbered 6.3 to read as follows:]

6.3 Combining Parcel Select and USPS Marketing Mail—Optional 3-Digit SCF/RPDC Entry

6.3.1 Entry at Designated SCFs/RPDCs

[Revise 6.3.1 to read as follows:]

Mailers may deposit pieces otherwise eligible for Parcel Select and USPS Marketing Mail prices and the USPS Marketing Mail DSCF price at an SCF/RPDC that USPS designates for destination ZIP Codes listed in labeling list L607.

6.3.2 Qualification and Preparation

[Revise the introductory paragraph of 6.3.2 to read as follows:]

Parcel Select machinable parcels and USPS Marketing Mail parcels may be prepared for entry at designated SCFs/RPDCs under these standards: * * *

[Delete item (c) in its' entirety; renumber items (d) through (f) as items (c) through (e) respectively:]

[Revise newly renumbered item (c) to read as follows:]

c. USPS Marketing Mail, machinable Marketing parcels (regular and Nonprofit) and Nonprofit machinable-priced parcels are eligible for the NDC/RPDC presort-level price. USPS Marketing Mail, nonstandard Marketing parcels (regular and Nonprofit) and Nonprofit nonstandard-priced parcels are eligible for the 3-digit presort-level DSCF price.

* * * * *

[Delete newly renumbered item (e) in its' entirety:]

* * * * *

7.0 Combining Package Services and Parcel Select Parcels for Destination Entry

7.1 Combining Parcels—DSCF/DRPDC and DDU OR DS&DC Entry

7.1.1 Qualification

[Revise 7.1.1 to read as follows:]

Mailers may combine Package Services and Parcel Select parcels in 5-digit scheme and 5-digit sacks or on 5-digit scheme and 5-digit pallets for entry at a destination sectional center facility (DSCF)/regional processing and distribution center (DRPDC), or a destination delivery unit (DDU), or sorting and delivery center (DS&DC) when USPS-authorized under 7.5. Mailers must pay all applicable fees for presort and drop shipment and must meet the minimum volume requirements for Presort prices and Parcel Select prices. Combined Package Services and Parcel Select mailings must meet the standards in 255.4.0, except as provided by this section.

7.1.2 Basic Standards

Package Services and Parcel Select parcels that qualify as machinable and nonstandard under 201 and meet the following conditions may be combined in 5-digit scheme and 5-digit sacks or 5-digit scheme and 5-digit pallets under these conditions:

[Revise item (a) to read as follows:]

a. Minimum volume requirements for Parcel Select must be met separately before combining.

* * * * *

7.1.3 Combined Parcels Prepared in Sacks—Price Eligibility

[Revise the introductory paragraph of 7.1.3 to read as follows:]

In addition to the applicable standards in 255.4.0 for destination entry Parcel Select, the following standards apply for combined parcels prepared in sacks: * * *

[Delete items (b) through (d) in its' entirety; renumber item (e) as item (b) respectively:]

* * * * *

7.1.6 Combined Parcels Prepared on Pallets—Price Eligibility

[Revise the introductory paragraph of 7.1.6 to read as follows:]

In addition to the applicable standards in 255.4.0 for destination entry parcels, the following standards apply for combined parcels prepared on pallets: * * *

[Delete items (b) through (d) in its' entirety; renumber item (e) as item (b) respectively:]

* * * * *

[Delete 7.2 in its' entirety; renumber 7.3 through 7.5 as 7.2 through 7.4:]

* * * * *

8.0 Preparing Pallets

* * * * *

8.5 General Preparation

8.5.1 Presort

The following apply: * * *

[Revise items (d) through (f) to read as follows:]

d. For sacks, trays, or machinable parcels on pallets, the mailer must prepare all required pallet levels before any mixed ADC or mixed pallets are prepared for a mailing or job.

e. Except as described in 15.1.3f, bundles must not be placed on mixed ADC or mixed pallets. Bundles that cannot be placed on pallets must be prepared in sacks under the standards for the price claimed.

f. The standards for bundle reallocation to protect the SCF/LPC (sectional center facility/local processing center) (letters, flats)/RPDC (parcels), or ADC pallet (8.11 and 8.14) are optional methods of pallet preparation designed to retain as much mail as possible at the SCF/LPC (letters, flats)/RPDC (parcels), or ADC level.

* * * * *

8.5.2 Required Preparation

The following standards apply to Periodicals, USPS Marketing Mail, and Parcel Select, except Parcel Select mailed at DSCF and DDU prices: * * *

[Revise items (b) and (c) to read as follows:]

b. For bundles of flat-size mailpieces or bundles of nonstandard parcels on pallets, after preparing all possible pallets under 8.5.2a, when 250 or more pounds of bundles remain for an ADC (Periodicals) or for an NDC/RPDC (USPS Marketing Mail parcels), mailers must prepare the ADC or Mixed pallet, as applicable for the class of mail. Exception: If no ADC or Mixed pallets are in a mailing and 250 or more pounds remain for an SCF/LPC (letters, flats)/RPDC (parcels), mailers must prepare the SCF/LPC (letters, flats)/RPDC (parcels) pallet.

c. Bundles that cannot be placed on an ADC, Mixed, or SCF/LPC (letters, flats)/RPDC (parcels) pallet may be placed on mixed ADC pallets if allowed by the specific standards for the class and shape of mail, or be placed in sacks or flat trays (when applicable) (see 8.9.1).

8.5.3 Minimum Load

The following minimum load standards apply to mail prepared on pallets: * * *

[Revise items (3) and (4) to read as follows:]

3. The minimum load for pallets is 200 pounds of USPS Marketing Mail parcels (machinable or nonstandard) entered at origin to claim the NDC price.

4. A pallet may contain a minimum of 100 pounds of nonletter-size mail or 12 linear feet of letter trays if it is:

An ADC pallet entered at the destination ADC;

a. An SCF/LPC (letters, flats)/RPDC (parcels) pallet entered at the destination SCF/LPC (letters, flats)/RPDC (parcels); or

b. The only pallet entered at an individual destination ADC or SCF/LPC (letters, flats)/RPDC (parcels) facility.

* * * * *

[Revise item (6) to read as follows:]

6. There is no minimum load for Mixed pallets of bundles or flat trays of USPS Marketing Mail flats.

* * * * *

8.5.6 Mail on Pallets

These standards apply to mail on pallets: * * *

[Revise item (b) to read as follows:]

b. When two or more Periodicals mailings or two or more USPS Marketing Mail mailings are placed together on pallets, the mailer must keep records for each mailing as required by the standards for the class of mail.

* * * * *

[Delete item (f) in its' entirety; renumber items (g) through (i) as (f) through (h):]

[Revise renumbered (f) to read as follows:]

g. For sacks or flat trays of Periodicals and USPS Marketing Mail flats or nonstandard parcels, carrier-route-price mail must be prepared on separate 5-digit pallets from automation-price and/or Presorted-price mail.

* * * * *

8.5.12 Nonpalletized Mail

The following apply:

[Revise item (a) to read as follows:]

a. Mail that is not palletized (e.g., the bundles do not meet the machinability standards in 8.5.7 through 8.5.11) must be prepared under the standards for the price claimed.

* * * * *

8.6 Pallet Labels

* * * * *

8.6.7 5-Digit, 5-Digit Carrier Routes, and 5-Digit Scheme Carrier Routes Pallets

[Revise the last sentence of 8.6.7 to read as follows:]

* * * 5-digit pallets of Heavy Printed Matter that contain only carrier route price mail also must show the words “CARRIER ROUTES” (or “CR-RTS”) after the “5D” pallet level description on the contents line.

* * * * *

8.8 Basic Uses

These types of mail may be palletized: * * *

[Delete item (j) in its' entirety:]

8.9 Bundles on Pallets

8.9.1 Applicability

[Revise the first sentence of 8.9.1 to read as follows:]

Presort destination bundles of Periodicals and USPS Marketing Mail flats and nonstandard parcels may be placed directly on pallets under 8.9.2 through 8.9.5 and 8.10. * * *

8.9.2 Basic Bundling Standards

[Revise 8.9.2 to read as follows:]

Bundle preparation for Periodicals and USPS Marketing Mail mailpieces must meet the applicable standards for each class or subclass of mail. Bundles may be sorted onto pallets under 8.10 and 10.0, 12.0, and 13.0.

* * * * *

[Delete 8.9.5 in its' entirety:]

* * * * *

8.10 Pallet Presort and Labeling

8.10.1 First-Class Mail—Letter Trays or Flat Trays

* * * Preparation, sequence, and labeling: * * *

[Revise the third sentence of (b) to read as follows:]

b. * * * Pallets contain trays destined for the 3-digit ZIP Codes serviced by the origin SCF/LPC facility in L005. * * *

* * * * *

8.10.2 Periodicals—Bundles, Sacks, Letter Trays or Flat Trays

* * * Prepare pallets in the following sequence: * * *

[Revise the introductory text of item (h) to read as follows:]

h. SCF/LPC (letters, flats)/RPDC (parcels), required, permitted for bundles, trays, and sacks (nonstandard parcels only). The pallet may contain carrier-route-price, automation-price, and/or Presorted-price mail for the 3-digit ZIP Code groups in L005. Labeling: * * *

* * * * *

8.10.3 USPS Marketing Mail—Bundles, Sacks, or Trays

[Revise the second sentence of the introductory paragraph to read as follows:]

* * * For USPS Marketing Mail High Density and High Density Plus flats price eligibility, only 5-digit pallets under 8.10.3a through 8.10.3c are allowed, and the pallets must be entered under None, DSCF/DLPC, or DDU or DS&DC standards. * * *

[Revise the last sentence of the introductory text of item (f) to read as follows:]

f. * * * Mailers may also, at their option, place mixed ADC or mixed AADC trays, labeled per L010, on an SCF/LPC pallet entered at the SCF/LPC facility responsible for processing mixed ADC or mixed AADC trays for that facility. Labeling: * * *

[Delete items (g) and (h) in its entirety; renumber item (i) as (g):]

[Revise renumbered item (g) to read as follows:]

g. Mixed, optional, permitted for bundles, trays, and sacks (nonstandard parcels only); allowed with no minimum and required at 100 pounds of mail for bundles of flats. Bundles of flats totaling less than 100 pounds in weight must be trayed if not palletized. The pallet may contain carrier route, automation, and/or Presorted mail. Mailers must place trays and sacks (nonstandard parcels only) containing pieces paid at the single-piece price on the mixed pallet (unless required to be presented separately by special postage payment authorization). Labeling:

1. Line 1: “MXD” followed by information in L601, Column B, for facility serving 3-digit ZIP Code prefix of entry Post Office (label to plant serving entry Post Office if authorized by processing and distribution manager).

2. Line 2: For flats and nonstandard parcels, “STD” followed by “FLTS” or “NONSTD,” as applicable; followed by “BARCODED” (or “BC”) if pallet contains automation price mail; followed by “NONBARCODED” (or “NBC”) if pallet contains carrier route and/or Presorted price mail; followed by “WKG.” For letters, “STD LTRS”; followed by “BC” if pallet contains barcoded letters; followed by “MACH” if pallet contains machinable letters; followed by “MAN” if pallet contains nonmachinable letters; followed by “WKG.”

* * * * *

[Revise 8.10.4 to read as follows:]

8.10.4 Heavy Printed Matter Nonstandard Parcels—Bundles and Sacks

Pallets must be prepared under 8.0 in the sequence listed below and completed at each required level before the next optional or required level is prepared. Unless indicated as optional, all sort levels are required under the conditions shown. For mailings of sacks on pallets, pallet preparation begins with 8.10.4e. Label pallets under 8.6 and according to the Line 1 and Line 2 information listed below:

a. 5-digit carrier route, required, bundles only, 250 pound minimum. Pallet must contain only carrier route mail for one carrier and the same 5-digit ZIP Code. Labeling:

1. Line 1: city, state, and 5-digit ZIP Code destination.

2. Line 2: “STD NONSTD”; followed by CARRIER ROUTE” (or “CR-RT”).

b. 5-digit scheme carrier routes, required, permitted for bundles only. Pallet must contain only carrier route bundles for the same 5-digit scheme under L001. Labeling:

1. Line 1: L001.

2. Line 2: “STD NONSTD”; followed by “CARRIER ROUTES” (or “CR-RTS”); followed by “SCHEME” (or “SCH”).

c. 5-digit carrier routes, required, permitted for bundles and sacks. Pallet must contain only carrier route mail for the same 5-digit ZIP Code. Labeling:

1. Line 1: city, state, and 5-digit ZIP Code destination (see 8.6.4c for overseas military mail).

2. Line 2: “STD NONSTD”; followed by “CARRIER ROUTES” (or “CR-RTS”).

d. 5-digit scheme, required. Pallet must contain only parcels for the same 5-digit scheme under L001. Labeling:

1. Line 1: L001.

2. Line 2: “STD NONSTD 5D”; followed by “SCHEME” (or “SCH”).

e. 5-digit, required. Pallet must contain only parcels for the same 5-digit ZIP Code. Labeling:

1. Line 1: city, state, and 5-digit ZIP Code destination (see 8.6.4c for overseas military mail).

2. Line 2: “STD NONSTD 5D.”

f. SCF/RPDC, required. Allowed only for mail deposited at a DSCF/DRPDC to claim SCF price. Labeling:

1. Line 1: L002, Column C.

2. Line 2: “STD NONSTD SCF.”

g. ASF/RPDC, optional. Pallet must contain only parcels for the 3-digit ZIP Code groups in L602. Labeling:

1. Line 1: Use L602.

2. Line 2: “STD NONSTD ASF”.

h. NDC/RPDC, required. Pallet must contain only parcels for the 3-digit ZIP Code groups in L601. Labeling:

1. Line 1: Use L601.

2. Line 2: “STD NONSTD NDC“.

i. Origin NDC/RPDC (required); no minimum; labeling:

1. Line 1: Use L601, Column B.

2. Line 2: “STD NONSTD NDC.”

j. Mixed, optional. Labeling:

1. Line 1: “MXD” followed by information in L601, Column B, for facility serving 3-digit ZIP Code prefix of entry Post Office (or labeled to plant serving entry Post Office if authorized by processing and distribution manager).

2. Line 2: “STD NONSTD WKG.”

[Revise 8.10.5 to read as follows:]

8.10.5 Package Services Nonstandard Parcels—Bundles and Sacks

Pallets must be prepared under 8.0 in the sequence listed below and completed at each required level before the next optional or required level is prepared. Unless indicated as optional, all sort levels are required under the conditions shown. For mailings of sacks on pallets, pallet preparation begins with 8.10.5e. Label pallets under 8.6 and according to the Line 1 and Line 2 information listed below:

a. 5-digit scheme, required, permitted for bundles only. Pallet must contain only 5-digit bundles of Presorted price mail for the same 5-digit scheme under L001. For 5-digit destinations not part of L001, 5-digit pallet preparation begins with 8.10.5d. Labeling:

1. Line 1: L001.

2. Line 2: “PSVC NONSTD 5D”; followed by “SCHEME” (or “SCH”).

b. 5-digit, required, permitted for bundles and sacks. Pallet must contain only Presorted price mail for the same 5-digit ZIP Code. Labeling:

1. Line 1: city, state, and 5-digit ZIP Code destination (see 8.6.4c for overseas military mail).

2. Line 2: “PSVC NONSTD 5D.”

c. 3-digit, optional, option not available for bundles for 3-digit ZIP Code prefixes marked “N” in L002. Pallet must contain parcels only for the same 3-digit ZIP Code. Labeling:

1. Line 1: L002, Column A.

2. Line 2: “PSVC NONSTD 3D.”

d. SCF/RPDC, required, permitted for bundles and sacks. The pallet may contain carrier-route-price and/or Presorted-price mail for the 3-digit ZIP Code groups in L005. Labeling:

1. Line 1: L002, Column C.

2. Line 2: “PSVC NONSTD SCF.”

e. Mixed, optional, permitted for sacks only. The pallet may contain carrier-route-price mail and/or Presorted-price mail. Labeling:

1. Line 1: “MXD” followed by information in L601, Column B, for facility serving 3-digit ZIP Code prefix of entry Post Office (or labeled to plant serving entry Post Office if authorized by processing and distribution manager).

2. Line 2: “PSVC NONSTD WKG.”

[Revise the title of 8.10.6 to read as follows:]

8.10.6 Combined Mailings of USPS Marketing Mail Marketing Parcels 3.5 Ounces or More, USPS Marketing Mail, and Parcel Select Machinable Parcels

[Revise the third sentence of the introductory paragraph to read as follows:]

* * * Combined mailings of USPS Marketing Mail Marketing parcels, USPS Marketing Mail, and Parcel Select machinable parcels also must meet the standards in 6.0 or 21.0. * * *

* * * * *

[Revise the text of item (c) to read as follows:]

c. SCF/RPDC, optional, but required for DSCF prices. Pallets must contain only parcels for the 3-digit ZIP Code groups in L005. Labeling:

1. Line 1: L002, Column C.

2. Line 2: “STD/PSVC MACH SCF.”

* * * * *

[Delete item (d) in its entirety and renumber item (e) as item (d). Revise the introductory text of renumbered item (d) and item (d1) to read as follows:]

d. Mixed (MXD), optional. Labeling:

1. Line 1: “MXD” followed by information in L601, Column B, for facility serving 3-digit ZIP Code prefix of entry Post Office (or labeled to plant serving entry Post Office if authorized by processing and distribution manager).

2. Line 2: “STD/PSVC MACH WKG.”

* * * * *

[Revise 8.10.7 to read as follows:]

8.10.7 Machinable Parcels Weighing 3.5 Ounces or More—USPS Marketing Mail, Including Marketing Parcels and Heavy Printed Matter

Mailers who palletize machinable parcels must make pallets or pallet boxes when there are 250 pounds or more for the destination levels below for DSCF, or DDU prices. When prepared at origin, a 200-pound minimum is required for the NDC price. Prepare pallets under 8.0 in the sequence below. Unless indicated as optional, all sort levels are required. Label pallets under applicable standards in 8.6 and according to Line 1 and Line 2 information below:

a. 5-digit scheme, required. Pallet must contain parcels for the same 5-digit scheme under L606. For 5-digit destinations not part of L606, prepare 5-digit pallets under 8.10.7b, Labeling:

1. Line 1: Use L606.

2. Line 2: “STD 5D.”

b. 5-digit carrier routes, (HPM sacks only). Pallet must contain only carrier route parcels for the same 5-digit ZIP Code. Labeling:

1. Line 1: city, state, and 5-digit ZIP Code destination (see 8.6.4c for overseas military mail).

2. Line 2: “STD”; followed by “CARRIER ROUTES” (or “CR-RTS”).

c. 5-digit, required. Pallet must contain parcels only for the same 5-digit ZIP Code. Labeling:

1. Line 1: city, state, and 5-digit ZIP Code destination (see 8.6.4c for overseas military mail).

2. Line 2: “STD 5D.”

d. SCF/RPDC, optional. Allowed only for mail deposited at a DSCF/DRPDC to claim SCF price. Labeling:

1. Line 1: Use L051.

2. Line 2: “STD MACH SCF.”

e. ASF/RPDC, optional, but required for DNDC prices. Not available for the Buffalo, NY ASF in L602. Pallets must contain only parcels for the 3-digit ZIP Code groups in L602. Labeling:

1. Line 1: Use L602.

2. Line 2: “STD MACH ASF.”

f. NDC/RPDC, required. Pallets must contain only parcels for the 3-digit ZIP Code groups in L601. Labeling:

1. Line 1: Use L601.

2. Line 2: “STD MACH NDC.”

g. Origin NDC/RDPC (required); no minimum; labeling:

1. Line 1: L601, Column B.

2. Line 2: “STD MACH NDC.”

h. Mixed, optional; no minimum. Labeling:

1. Line 1: “MXD” followed by information in L601, Column B, for facility serving 3-digit ZIP Code prefix of entry Post Office (or labeled to plant serving entry Post Office if authorized by processing and distribution manager).

2. Line 2: “STD MACH WKG.”

[Revise 8.10.8 to read as follows:]

8.10.8 Nonstandard Parcels Weighing 2 Ounces or More—USPS Marketing Mail, Including Marketing Parcels

Mailers who palletize unbundled or unsacked nonstandard parcels must make pallets or pallet boxes when there are 250 pounds or more for the destination levels below for DSCF or DDU prices. When pallets or pallet boxes are prepared at origin, a 200-pound minimum is required for the NDC price. Mailers must prepare pallets or pallet boxes of nonstandard parcels (except tubes, rolls, and similar pieces) weighing 2 ounces or more under 8.0 and in the sequence listed below. Mailers must label pallets or pallet boxes according to the Line 1 and Line 2 information listed below and under 8.6. Mailers may not prepare tubes, rolls, and similar pieces or pieces that weigh less than 2 ounces on pallets or in pallet boxes, except for pieces in carrier-route bundles or in sacks under 8.10.3. Preparation sequence and labeling:

a. 5-digit scheme, required. Pallet or pallet box must contain parcels only for the same 5-digit scheme under L606. For 5-digit destinations not part of L606 prepare 5-digit pallets under 8.10.8b. Labeling:

1. Line 1: Use L606.

2. Line 2: “STD NONSTD 5D”; followed by “SCHEME” (or “SCH”).

b. 5-digit, required. Pallet or pallet box must contain parcels only for the same 5-digit ZIP Code. Labeling:

1. Line 1: city, state, and 5-digit ZIP Code destination (see 8.6.4c for overseas military mail).

2. Line 2: “STD NONSTD 5D.”

c. SCF/RPDC, required. Allowed only for mail deposited at a DSCF/DRPDC to claim SCF price. labeling:

1. Line 1: Use L002, Column C.

2. Line 2: Use “STD NONSTD SCF.”

d. ASF/RPDC, optional, but required for DNDC prices. Not available for the Buffalo, New York, ASF in L602. Pallets must contain only parcels for the 3-digit ZIP Code groups in L602. Labeling:

1. Line 1: Use L602.

2. Line 2: “STD NONSTD ASF.”

e. NDC/RPDC, required. Pallets must contain only parcels for the 3-digit ZIP Code groups in L601. Labeling:

1. Line 1: Use L601.

2. Line 2: “STD NONSTD NDC.”

f. Origin NDC/RPDC (required); no minimum; labeling:

1. Line 1: L601, Column B.

2. Line 2: “STD NONSTD NDC.”

b. Mixed, optional. Labeling:

1. Line 1: “MXD” followed by information in L601, Column B, for facility serving 3-digit ZIP Code prefix of entry Post Office (or labeled to plant serving entry Post Office if authorized by processing and distribution manager).

2. Line 2: “STD NONSTD WKG.”

8.11 Bundle Reallocation To Protect SCF/LPC/RPDC Pallet for Periodicals Flats and Nonstandard Parcels and USPS Marketing Mail Flats on Pallets

8.11.1 Basic Standards

The following apply: * * *

[Revise item (c) to read as follows:]

a. Reallocation is performed only when there is mail for the SCF/LPC (letters, flats)/RPDC (parcels) service area that would fall beyond the SCF/LPC (letters, flats)/RPDC (parcels) pallet level (e.g., to an ADC pallet).

* * * * *

8.11.3 Reallocation of Bundles If Optional 3-Digit Pallets Are Prepared

Reallocation rules are as follows: * * *

[Revise the last sentence of item (d) to read as follows:]

d. * * * Mail that falls beyond the SCF/RPDC pallet level must be placed on the next appropriate pallet (ADC or Mixed) or in the next appropriate sack (nonstandard parcels) or flat tray.

8.11.4 Reallocating of Bundles If Optional 3-Digit Pallets Are Not Prepared

Reallocation rules are as follows: * * *

[Revise the last sentence of item (b) to read as follows:]

b. * * * Mail that falls beyond the SCF/RPDC pallet level must be placed on the next appropriate pallet (ADC or Mixed) or in the next appropriate sack (nonstandard parcels) or flat tray.

* * * * *

[Delete 8.13 in its' entirety; renumber 8.14 through 8.20 as 8.13 through 8.19 respectively;]

* * * * *

[Renumbered 8.13]

8.13 Pallets of Bundles, Sacks, and Trays

* * * * *

[Delete renumbered 8.13.3 and 8.13.4 in its' entirety and renumber 8.13.5 as 8.13.3:]

* * * * *

[Renumbered 8.13.3]

8.13.3 Securing Trays

The following apply:

a. Trays must be sleeved and strapped under the following: * * *

[Revise item a(4) to read as follows:]

4. 245.3.0 for USPS Marketing Mail flats.

[Delete items a(5) and a(6) in its' entirety:]

* * * * *

[Renumbered 8.16]

8.16 Pallets of Machinable Parcels

[Delete item 8.16.1 in its' entirety; renumber 8.16.2 as 8.16.1:]

* * * * *

[Revise the title of renumbered 8.19 to read as follows:]

8.19 Parcel Select DDU Prices

* * * * *

9.0 Combining Bundles of Automation and Nonautomation Flats in Flat Trays and Sacks

[Delete 9.1 in its' entirety; renumber sections 9.2 through 9.4 as 9.1 through 9.3 respectively:]

* * * * *

[Delete 9.4 in its' entirety:]

* * * * *

10.0 Merging Bundles of Flats Using the City State Product

* * * * *

10.2 USPS Marketing Mail

* * * * *

10.2.5 Pallet Preparation and Labeling

* * * * *

[Delete items (h) and (i) in its' entirety; renumber item (j) as (h):]

[Revise renumbered item (h) to read as follows:]

Mixed, optional, allowed with no minimum and required at 100 pounds of mail for bundles of flats. Bundles of flats totaling less than 100 pounds in weight must be trayed if not palletized. The pallet may contain carrier route, automation, and/or Presorted mail. Mailers must place trays containing pieces paid at the single-piece price on the mixed pallet (unless required to be presented separately by special postage payment authorization). Labeling:

1. Line 1: “MXD” followed by information in L601, Column B.

2. Line 2: “STD” followed by “FLTS”; followed by “BARCODED” (or “BC”) if pallet contains automation price mail; followed by “NONBARCODED” (or “NBC”) if pallet contains carrier route and/or Presorted price mail; followed by “WKG.”

* * * * *

11.0 Combining Automation Price and Nonautomation Price Flats in Bundles

[Delete 11.1 in its' entirety; renumber sections 11.2 through 11.4 as 11.1 through 11.3 respectively:]

[Delete 11.3 in its' entirety:]

* * * * *

12.0 Merging Bundles of Flats on Pallets Using a 5 Percent Threshold

* * * * *

12.2 USPS Marketing Mail

* * * * *

12.2.3 Pallet Preparation and Labeling

* * * * *

[Delete items (h) and (i) in its' entirety; renumber item (j) as (h):]

[Revise renumbered item (h) to read as follows:]

Mixed, optional, allowed with no minimum and required at 100 pounds of mail for bundles of flats. Bundles of flats totaling less than 100 pounds in weight must be trayed if not palletized. The pallet may contain carrier route, automation, and/or Presorted mail. Mailers must place trays containing pieces paid at the single-piece price on the mixed pallet (unless required to be presented separately by special postage payment authorization). Labeling:

1. Line 1: “MXD” followed by information in L601, Column B.

2. Line 2: “STD” followed by “FLTS”; followed by “BARCODED” (or “BC”) if pallet contains automation price mail; followed by “NONBARCODED” (or “NBC”) if pallet contains carrier route and/or Presorted price mail; followed by “WKG.”

* * * * *

13.0 Merging Bundles of Flats on Pallets Using the City State Product and a 5-Percent Threshold

* * * * *

13.2 USPS Marketing Mail

* * * * *

13.2.4 Pallet Preparation and Labeling

* * * * *

[Delete items (h) and (i) in its' entirety; renumber item (j) as (h):]

[Revise renumbered item (h) to read as follows:]

Mixed, optional, allowed with no minimum and required at 100 pounds of mail for bundles of flats. Bundles of flats totaling less than 100 pounds in weight must be trayed if not palletized. The pallet may contain carrier route, automation, and/or Presorted mail. Mailers must place trays containing pieces paid at the single-piece price on the mixed pallet (unless required to be presented separately by special postage payment authorization). Labeling:

1. Line 1: “MXD” followed by information in L601, Column B.

2. Line 2: “STD” followed by “FLTS”; followed by “BARCODED” (or “BC”) if pallet contains automation price mail; followed by “NONBARCODED” (or “NBC”) if pallet contains carrier route and/or Presorted price mail; followed by “WKG.”

* * * * *

[Revise the title of 15.0 to read as follows:]

15.0 Combining USPS Marketing Mail Flats and Periodicals Flats

15.1 Basic Standards

15.1.1 General

[Revise the introductory paragraph of 15.1.1 to read as follows:]

Authorized mailers may combine USPS Marketing Mail flats and Periodicals flats in a single mailing as follows:

[Revise the first sentence of 15.1.1(a) to read as follows:]

a. Each mailpiece must meet the standards in 240 for USPS Marketing Mail and 207 for Periodicals. * * *

[Revise 15.1.1(e) to read as follows:]

e. Each mailing must include at least 200 pieces or 50 pounds of USPS Marketing Mail.

* * * * *

[Revise item (g) to read as follows:]

g. When residual pieces are included in a combined mailing of USPS Marketing Mail flats and Periodicals flats on pallets, these pieces must be bundled and placed directly on mixed pallets.

[Revise item 15.1.1(h) to read as follows:]

h. Each comailing containing USPS Marketing Mail flats must meet the following requirements:

1. Except under 15.1.1h2, USPS Marketing Mail flat-sized pieces must not weigh more than 20 ounces when combined in applicable bundles, and must be entered at a destination sectional center facility (DSCF)/local processing center (LPC) on 5-digit or 3-digit/sectional center facility (SCF) level pallets, or at a destination delivery unit (DDU)/sorting and delivery center (S&DC).

2. USPS Marketing Mail flat-sized pieces may weigh up to 24 ounces when combined in carrier-route (CR) level bundles on a pallet included in no less than SCF/3D sortation entered at an SCF/LPC. USPS Marketing Mail flat-sized pieces must not exceed 20 ounces if prepared in the CR-level bundle with certain Periodicals pieces that may weigh more than 20 ounces. The maximum number of USPS Marketing Mail pieces weighing more than 20 ounces up to the maximum of 24 ounces must not exceed 50 percent of each mailing.

* * * * *

15.1.2 Service Objectives

[Revise 15.1.2 to read as follows:]

The Postal Service processes combined mailings of USPS Marketing Mail and Periodicals flats to the service standards of USPS Marketing Mail.

15.1.3 Postage Payment

[Revise the first sentence of 15.1.3 to read as follows:]

Postage for all USPS Marketing Mail pieces must be paid with permit imprint using a special postage payment system in 2.0 through 4.0 at the Post Office location serving the mailer`s plant. * * *

* * * * *

15.1.5 Authorization

[Revise the first sentence of 15.1.5 to read as follows:]

A mailer must submit a written request to the director, Business Acceptance Solutions (see 608.8.0 for address), to combine mailings of USPS Marketing Mail flats and Periodicals flats. * * *

15.1.6 Price Eligibility

[Revise 15.1.6 to read as follows:]

Apply prices based on the standards in 240 for USPS Marketing Mail flats.

* * * * *

15.1.10 Other Periodicals Pricing

Other prices for Periodicals flats in a combined mailing of USPS Marketing Mail and Periodicals flats on pallets will be assessed as follows:

[Delete items (a) and (b); renumber items (c) through (e) as (a) through (c) respectively:]

[Revise renumbered (a) through (c) to read as follows:]

The bundle price applicable to the ADC bundle placed on the ADC container level will apply to mixed ADC bundles placed on mixed pallets.

a. The container price applicable to the mixed ADC pallet level will apply to the mixed pallet level.

b. The bundle price applicable to the 5-digit bundle placed on the mixed ADC container level will apply to carrier route bundles placed on mixed pallets.

[Revise 15.1.11 to read as follows:]

15.1.11 Bundle Reallocation To Protect the SCF/LPC Pallet

Mailers may reallocate bundles under 8.11 to protect the SCF/LPC pallet.

* * * * *

[Revise the title of 15.2 to read as follows:]

15.2 Combining USPS Marketing Mail Flats and Periodicals Flats in the Same Bundle

* * * * *

15.2.2 Mailpiece and Bundle Identification

[Revise 15.2.2 to read as follows:]

Each USPS Marketing Mail and Periodicals mailpiece prepared under a combined mailing of USPS Marketing Mail flats and Periodicals flats must be identified as being part of a mixed class mailing through the use of an optional endorsement line (OEL) in accordance with the standards in 203.7.1.8.

* * * * *

15.2.3 Pallet Presort and Labeling

[Revise the second sentence of 15.2.3 to read as follows:]

* * * Merged 5-digit scheme through SCF pallets must contain at least 250 pounds of combined USPS Marketing Mail and Periodicals mailpieces, except as allowed under 8.5.3. * * *

[Revise the title of 15.3 to read as follows:]

15.3 Combining Bundles of USPS Marketing Mail Flats and Periodicals Flats on the Same Pallet

* * * * *

15.3.2 Mailpiece and Bundle Identification

[Revise 15.3.2 to read as follows:]

Each USPS Marketing Mail and Periodicals mailpiece prepared under a combined mailing of USPS Marketing Mail flats and Periodicals flats must be identified as being part of a mixed class mailing through the use of an optional endorsement line (OEL) in accordance with standards in 203.7.1.8.

15.3.3 Pallet Presort and Labeling

[Revise the second sentence of 15.3.3 to read as follows:]

* * * Merged 5-digit scheme through SCF pallets must contain at least 250 pounds of combined USPS Marketing Mail and Periodicals, except as allowed under 8.5.3. * * *

* * * * *

15.4 Pallet Preparation

15.4.1 Pallet Preparation, Sequence and Labeling

[Revise 15.4.1 to read as follows:]

When combining USPS Marketing Mail and Periodicals flats within the same bundle or combining bundles of USPS Marketing Mail flats and bundles of Periodicals flats on pallets, bundles must be placed on pallets. For labeling, “STD/PER FLTS”, as applicable, means to label each individual pallet based on the classes of mailpieces on that individual pallet. Preparation, sequence and labeling:

Preparation, sequence and labeling:

a. 5-digit scheme carrier routes, required. Pallet must contain only carrier route bundles for the same 5-digit scheme under L001. For 5-digit destinations not part of L001, 5-digit carrier routes pallet preparation begins with 15.4.1c. Labeling:

1. Line 1: L001.

2. Line 2: “STD/PER FLTS”; followed by “CARRIER ROUTES” (or “CR-RTS”); followed by “SCHEME” (or “SCH”); followed by “MIX COMAIL.”

b. Merged 5-digit scheme, optional. Not permitted for bundles containing noncarrier route automation-compatible flats under 201.6.0. Required for all other bundles. Pallet must contain carrier route bundles and noncarrier route 5-digit bundles (Presorted bundles only) for the same 5-digit scheme under L001. For 5-digit destinations not part of L001, merged 5-digit pallet preparation begins with 15.4.1d. Labeling:

1. Line 1: L001.

2. Line 2: “STD/PER FLTS CR/5D;” followed by “SCHEME” (or “SCH”); followed by “MIX COMAIL.”

c. Merged 5-digit, optional. Not permitted for bundles containing noncarrier route automation-compatible flats under 201.6.0. Required for all other bundles. Pallet must contain carrier route bundles and noncarrier route 5-digit bundles (Presorted bundles only) for the same 5-digit ZIP Code. Labeling:

1. Line 1: city, state, and 5-digit ZIP Code destination (see 8.6.4c for overseas military mail).

2. Line 2: “STD/PER FLTS”; followed by “CR/5D”; followed by “MIX COMAIL.”

d. 5-digit carrier routes, required. Pallet must contain only carrier route mail for the same 5-digit ZIP Code. Labeling:

1. Line 1: city, state, and 5-digit ZIP Code destination (see 8.6.4c for overseas military mail).

2. Line 2: “STD/PER FLTS”; followed by “CR/5D”; followed by “MIX COMAIL.”

e. 5-digit, required. Pallet must contain only mail for the same 5-digit ZIP Code or same 5-digit scheme under L007 (for automation flats only under 201.6.0). 5-digit scheme bundles are assigned to 5-digit pallets according to the OEL “label to” 5-digit ZIP Code. Labeling:

1. Line 1: city, state, and 5-digit ZIP Code destination (see 8.6.4c for overseas military mail).

2. Line 2: “STD/PER FLTS 5D”; followed by “BARCODED” (or “BC”); “NONBARCODED” (or “NBC”) for Presorted mail, or “BARCODED/NONBARCODED” (or “BC/NBC”) for pallets including both barcoded and Presorted pieces; followed by “MIX COMAIL.”

f. 3-digit, optional, but not available for bundles for 3-digit ZIP Code prefixes marked “N” in L002. Pallet may contain mail for the same 3-digit ZIP Code or the same 3-digit scheme under L008 (for automation-compatible flats only under 201.6.0). Three-digit scheme bundles are assigned to pallets according to the OEL “label to” 3-digit ZIP Code in L008. Labeling:

1. Line 1: L002, Column A.

2. Line 2: “STD/PER FLTS 3D”; followed by “BARCODED” (or “BC”); “NONBARCODED” (or “NBC”) for Presorted mail, or “BARCODED/NONBARCODED” (or “BC/NBC”) for pallets including both barcoded and Presorted pieces; followed by “MIX COMAIL.”

g. SCF/LPC, required. Pallet may contain carrier route, automation or Presorted mail for the 3-digit ZIP Code groups in L005. Labeling:

1. Line 1: L002, Column C.

2. Line 2: “STD/PER FLTS SCF”; followed by “BARCODED” (or “BC”); “NONBARCODED” (or “NBC”) for Presorted mail, or “BARCODED/NONBARCODED” (or “BC/NBC”) for mixed pallets; followed by “MIX COMAIL.”

h. Mixed, required, 100 pound minimum. Pallet may contain carrier-route, automation or presorted mail. Pallet includes MXD ADC bundles, prepared according to the “label to” ZIP in L009, as appropriate. Unless authorized by the processing and distribution manager, pallet must be entered at the facility serving the 3-digit ZIP Code of the entry Post Office. Labeling:

1. Line 1: Use “MXD” followed by the information in L601, for the facility serving the 3-digit ZIP Code prefix of the entry Post Office.

2. Line 2: “STD/PER FLTS;” followed by “BARCODED” (or “BC”); “NONBARCODED” (or “NBC”) for Presorted mail, or “BARCODED/NONBARCODED” (or “BC/NBC”) for mixed pallets; followed by “WKG;” followed by “MIX COMAIL.”

* * * * *

16.0 Plant-Load Mailings

* * * * *

16.7 Interdistrict Plant-Loaded Shipments

* * * * *

[Revise 16.7.4 to read as follows:]

16.7.4 USPS Marketing Mail and Parcel Select

For plant-loaded shipments of USPS Marketing Mail and Parcel Select, if there is enough mail for the same SCF/LPC (letters, flats)/RPDC (parcels) service area to fill 60 percent or more of a vehicle by weight or by cube (a minimum of 28,000 pounds or 2,000 cubic feet), the mailer must prepare a direct vehicle for that SCF/LPC (letters, flats)/RPDC (parcels).

* * * * *

16.7.7 Sufficient Volume

Two or more mailings, which independently have sufficient volume to require destination vehicles to be prepared, must meet these standards when combined: * * *

[Delete item (c) in its' entirety:]

* * * * *

20.0 eInduction Option

* * * * *

20.3 General Eligibility Standards

First-Class Mail, Periodicals, and USPS Marketing Mail letters and flats are eligible for eInduction. All containers entered under eInduction must: * * *

* * * * *

21.0 Optional Combined Parcel Mailings

21.1 Basic Standards for Combining Parcel Select, Package Services, and USPS Marketing Mail Parcels

21.1.1 Basic Standards

Package Services parcels, Parcel Select parcels, and USPS Marketing Mail parcels in a combined parcel mailing must meet the following standards:

* * * * *

[Revise item (c) to read as follows:]

c. Mailers must pay all applicable presort mailing fees.

d. Combined mailings must meet the following minimum volume requirements: * * *

[Delete item d(3) in its' entirety:]

* * * * *

21.2 Price Eligibility

21.2.1 Eligible Prices

[Revise 21.2.1 to read as follows:]

Combined parcels may be eligible for USPS Marketing Mail (including Heavy Printed Matter), Parcel Select, single-piece Media Mail, single-piece Library Mail, and destination entry prices and discounts as applicable.

21.2.2 Price Application

[Revise 21.2.2 to read as follows:]

Apply prices based on the criteria in 200 and the following standards:

a. USPS Marketing Mail and Parcel Select parcel prices are based on the container level and entry (see 243.5.0 and 253).

b. Media Mail parcels qualify for single-piece prices for pieces prepared in MXD ADC or MXD containers, and when the combined mailing contains less than 300 pieces of Media Mail.

c. Library Mail parcels qualify for single-piece prices for pieces in MXD ADC or MXD containers, and when the combined mailing contains less than 300 pieces of Library Mail.

d. Parcel Select prices are based on the destination entry for pieces in 5-digit, 3-digit, or ADC containers.

* * * * *

21.3 Mail Preparation

* * * * *

21.3.2 Combining USPS Marketing Mail, Parcel Select, and Package Services Machinable Parcels

Prepare and enter USPS Marketing Mail, Parcel Select, and Package Services machinable parcels, and USPS Marketing Mail Marketing parcels 6 ounces or more, as combined machinable parcels as shown in the table below.

[Revise the table in 21.3.2 to read as follows:]

Combined Preparation
|  | Mixed
Entry | 5-Digit/Scheme ¹ | (Required).
Origin | Sacks—15-piece or 30-lb minimum | Sacks—No minimum.
| Pallets—250-lb minimum | Pallets—250-lb minimum.
DSCF/DRPDC | Sacks—10-piece or 10-lb minimum
| Pallets—100-lb minimum
DDU/DS&DC | Sacks—No minimum
| Pallets—No minimum

1. All parcel types may be combined in 5-digit containers to meet minimum volumes.

21.3.3 Combining USPS Marketing Mail, Parcel Select, and Package Services APPS-Machinable Parcels

Prepare and enter USPS Marketing Mail, Parcel Select, and Package Services nonstandard parcels, that are not tubes, rolls, triangles, or similarly nonstandard-shaped parcels) as combined APPS-machinable parcels as shown in the table below.

[Revise the table in 21.3.3 to read as follows:]

Combined Preparation
|  | 3-Digit | ADC | Mixed ADC
Entry | 5-Digit/Scheme ¹ | (Required) | (Required) | (Required).
Origin | Sacks—15-piece or 30-lb minimum | Sacks—10-piece or 20-lb minimum | Sacks—10-piece or 20-lb minimum | Sacks—No minimum.
| Pallets—250-lb minimum | Pallets—250-lb minimum | Pallets—250-lb minimum | Pallets—250-lb minimum.
DSCF/DRPDC | Sacks—10-piece or 10-lb minimum | Sacks—10-piece or 20-lb minimum
| Pallets—100-lb minimum | Pallets—100-lb minimum
DDU/DS&DC | Sacks—No minimum
| Pallets—No minimum

1. All parcel types may be combined in 5-digit containers to meet minimum volumes.

* * * * *

21.3.4 Combining USPS Marketing Mail, Parcel Select, and Package Services Parcels (Not APPS-Machinable)

Prepare and enter USPS Marketing Mail, Parcel Select, and Package Services parcels, and USPS Marketing Mail Marketing parcels under 2 ounces, as combined not APPS-machinable parcels as shown in the table below.

[Revise the table in 21.3.4 to read as follows:]

Combined Preparation
|  | 3-Digit | ADC | Mixed ADC
Entry | 5-Digit/Scheme ¹ | (Required) | (Required) | (Required).
Origin | Sacks—15-piece or 30-lb minimum | Sacks—10-piece or 20-lb minimum | Sacks—10-piece or 20-lb minimum | Sacks—No minimum.
| Pallets—250-lb minimum | Pallets—250-lb minimum | Pallets—250-lb minimum | Pallets—250-lb minimum.
DSCF/DRPDC | Sacks—10-piece or 10-lb minimum | Sacks—10-piece or 20-lb minimum
| Pallets—100-lb minimum | Pallets—100-lb minimum
DDU/DS&DC | Sacks—No minimum
| Pallets—No minimum

1. All parcel types may be combined in 5-digit containers to meet minimum volumes.

* * * * *

22.0 Seamless Acceptance Program

22.1 Description

[Revise the last sentence of 22.1 to read as follows:]

* * * Seamless Acceptance is available for First-Class Mail cards, letters, and flats, Periodicals and USPS Marketing Mail letters and flats.

* * * * *

22.3 Basic Standards

22.3.1 General

[Revise the first sentence of 22.3.1 to read as follows:]

First-Class Mail, Periodicals and USPS Marketing Mail letters and flats are potentially eligible for Seamless Acceptance. * * *

* * * * *

23.0 Full-Service Automation Option

* * * * *

23.2 General Eligibility Standards

[Revise the introductory paragraph of 23.2 to read as follows:]

First-Class Mail (FCM), Periodicals, and USPS Marketing Mail, cards (FCM only), letters (except letters using simplified address format) and flats meeting eligibility requirements for automation or carrier route prices (except for USPS Marketing Mail ECR saturation flats), are potentially eligible for full-service incentives. Additionally, all pieces entered under full-service pricing must: * * *

* * * * *

23.3 Fees

23.3.1 Eligibility for Exception to Payment of Annual Fees and Waiver of Deposit of Permit Imprint Mail Restrictions

[Revise the introductory paragraph of 23.3.1 to read as follows:]

Mailers who present automation or presort mailings (of First-Class Mail cards, letters, and flats and USPS Marketing Mail letters and flats) that contain 90 percent or more full-service eligible mail as full-service, and 75 percent of their total mail is eligible for full-service incentives, are eligible for the following exceptions to standards: * * *

* * * * *

23.5 Additional Standards

* * * * *

23.5.2 Address Correction Notices

* * * * *

b. Complimentary ACS ancillary service address-correction notices for mailpieces in full-service mailings are available for: * * *

[Revise item b(3) to read as follows:]

3. USPS Marketing Mail letters and flats, provided at no charge. USPS Marketing Mail pieces must include a printed-on-piece endorsement in addition to encoding the ACS ancillary service request into the Intelligent Mail barcode. See 507.4.2 for additional standards.

* * * * *

Notice 123 (Price List)

[Revise prices as applicable.]

* * * * *

Kevin Rayburn,
Attorney, Ethics and Legal Compliance.

[FR Doc. 2025-07388 Filed 4-28-25; 11:15 am]

BILLING CODE 7710-12-P